ENVIRONMENTAL PROTECTION AGENCY

40 CFR Part 81

[EPA-HQ-OAR-2017-0548; FRL-9970-77-OAR]

RIN 2060-AT33

Air Quality Designations for the 2015 Ozone National Ambient Air Quality Standards (NAAQS)

AGENCY: Environmental Protection Agency (EPA).

ACTION: Final rule.

SUMMARY: This rule establishes initial air quality designations for most areas in the United States, including most areas of Indian country, for the 2015 primary and secondary national ambient air quality standards (NAAQS) for ozone. In this action, the Environmental Protection Agency (EPA) is designating 2,646 counties, including Indian Country located in those counties, two separate areas of Indian Country, and five territories as Attainment/Unclassifiable and three counties as Unclassifiable.

DATES: This final rule is effective on January 16, 2018.

ADDRESSES: The EPA has established a docket for this action under Docket ID No. EPA-HQ-OAR-2017-0548. All documents in the docket are listed in the index at http://www.regulations.gov. Although listed in the index, some information is not publicly available, i.e., Confidential Business Information or other information whose disclosure is restricted by statute. Certain other material, such as copyrighted material, is not placed on the Internet and will be publicly available only in hard copy form. Publicly available docket materials are available either electronically in the docket or in hard copy at the Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Office of Air and Radiation Docket and Information Center is (202) 566-1742.

In addition, the EPA has established a Web site for this rulemaking at: https://www.epa.gov/ozone-designations. The Web site includes the EPA's final state and tribal designations, as well as state and tribal initial recommendation letters.

FOR FURTHER INFORMATION CONTACT: For general questions concerning this action, please contact Denise Scott, U.S. EPA, Office of Air Quality Planning and Standards, Air Quality Planning Division, C539-04, Research Triangle Park, North Carolina 27711, telephone: (919) 541-4280, email: at scott.denise@epa.gov.

Regional Office Contacts

Region I—Richard Burkhart (617) 918-1664

Region II—Omar Hammad (212) 637-3347

Region III—Maria Pino (215) 814-2181

Region IV—Jane Spann (404) 562-9029

Region V—Kathleen D'Agostino (312) 886-1767

Region VI—Carrie Paige (214) 665-6521

Region VII—Lachala Kemp (913) 551-7214

Region VIII—Chris Dresser (303) 312-6385

Region IX—Laura Lawrence (415) 972-3407

Region X—Karl Pepple (206) 553-1778

SUPPLEMENTARY INFORMATION:

I. Background

On October 1, 2015, the EPA revised both the primary and secondary NAAQS for ozone to a level of 0.070 parts per million (ppm) (annual fourth-highest daily maximum 8-hour average concentration, averaged over 3 years).¹ The revised 2015 ozone NAAQS provide greater protection of public health and the environment than the previous 2008 ozone NAAQS. Although the 2015 ozone NAAQS retain the same general form and averaging time as the 0.75 ppm NAAQS set in 2008, the level is more protective.

¹ See 80 FR 65296; October 26, 2015, for a detailed explanation of the calculation of the 3-year 8-hour average and 40 CFR part 50, appendix U.

II. Purpose of This Action

The purpose of this action is to announce and promulgate initial area designations for most counties ² in the country and most areas of Indian country with respect to the 2015 primary and secondary NAAQS for ozone, in accordance with the requirements of CAA section 107(d). The EPA is designating these counties as either Attainment/Unclassifiable or Unclassifiable. For other areas not addressed in this final rule, the EPA is not extending the time provided under section 107(d)(1)(B) of the Clean Air Act but is not yet prepared to issue designations. The agency intends to address these areas in a separate future action.

² Any reference to “counties” in this action also includes non-county administrative or statistical areas that are comparable to counties. Louisiana parishes; the organized boroughs of Alaska; the District of Columbia; and the independent cities of the states of Virginia, Maryland, Missouri, and Nevada are equivalent to counties for administrative purposes. Alaska's Unorganized Borough is divided into 10 census areas that are statistically equivalent to counties. As of 2017, there are currently 3,142 counties and county-equivalents in the United States.

In this action, the EPA is designating as Attainment/Unclassifiable 2,646 counties for which the states recommended a designation of Attainment or Attainment/Unclassifiable. These are counties with one or more monitors attaining the 2015 ozone NAAQS or counties for which the EPA does not have reason to believe are violating the 2015 ozone NAAQS or are contributing to a violation of the 2015 ozone NAAQS in another county.

In addition, the state of Washington recommended a designation of Unclassifiable for three counties—Benton, Franklin, and Walla Walla. Benton County and Franklin County are part of the Kennewick Richland, Washington, CBSA.³ Walla Walla County is outside of the Kennewick-Richland, Washington, CBSA, but adjacent to Benton County, and the state of Washington recommended it to be included in the Unclassifiable area. A monitor was installed in 2015 in Benton County, Washington. Three consecutive years of certified ozone monitoring data to determine the counties' attainment status is not currently available and would not be available if the EPA were to extend the deadline for designating this area until October 2018. Thus, EPA is designating this area as Unclassifiable, consistent with the state's recommendation.⁴

³ See “Washington State Designation Recommendations for the 2015 National Ambient Air Quality Standards for Ozone,” letter from Maria D. Bellon, Director, Department of Ecology, State of Washington, to Dennis McLerran, Regional Administrator, Region 10, dated September 30, 2016.

⁴ See “Washington Area Designation for the 2015 Ozone National Ambient Air Quality Standards Technical Support Document, dated September 29, 2017.

Consistent with the EPA's “Policy for Establishing Separate Air Quality Designations for Areas of Indian Country” (December 20, 2011), the EPA is designating two areas of Indian country (Fond du Lac Band of Lake Superior Chippewa Indians and Forest County Potawatomi Community) as separate Attainment/Unclassifiable areas.⁵ Both the Fond du Lac Band of Lake Superior Chippewa Indians and the Forest County Potawatomi submitted attainment recommendations based on air quality data from ozone monitors located on their respective tribal lands.

⁵ Memorandum from Stephen D. Page, Director, Office of Air Quality Planning and Standards, to Regional Air Directors, Regions I-X, dated December 20, 2011, titled, “Policy for Establishing Separate Air Quality Designations for Areas of Indian Country.”

III. Public Participation in the Designation Process

Section 107(d)(2)(B) of the CAA provides that initial area designations under CAA section 107(d)(1) are not subject to the notice-and-comment rulemaking procedures of the Administrative Procedure Act (APA), but that “nothing herein shall be construed as precluding such public notice and comment whenever possible.” The EPA is promulgating these designations for 2,649 counties including Indian Country located in those counties, two separate areas of Indian Country, and five territories without notice-and-comment, because we believe that the designations pursuant to this final action are noncontroversial and the designations are consistent with the recommendations of the states and tribes in which these counties and tribal lands are located. Any party that is concerned about one or more of the area designations finalized in this action may file a petition for reconsideration with the Administrator.

IV. What is ozone and how is it formed?

Ground-level ozone is a gas that is formed by the reaction of volatile organic compounds (VOCs) and oxides of nitrogen (NOX) in the atmosphere in the presence of sunlight. These precursor emissions are emitted by many types of pollution sources, including power plants and industrial emissions sources, on-road and off-road motor vehicles and engines, and smaller sources, collectively referred to as area sources. Ozone is predominately a summertime air pollutant. However, a few areas in the Western U.S. have experienced high levels of ozone in the wintertime. Ozone and ozone precursors can be transported to an area from sources in nearby areas or from sources located hundreds of miles away.

V. What are the 2015 ozone NAAQS and the health and welfare concerns they address?

As discussed in Section I of this preamble, on October 1, 2015, the EPA revised both the primary and secondary NAAQS for ozone to a level of 0.070 ppm (annual fourth-highest daily maximum 8-hour average concentration, averaged over 3 years) to provide increased protection of public health and the environment.

The EPA lowered the primary 8-hour ozone standard from 0.075 ppm to 0.070 ppm to protect against health effects associated with ozone exposure, including a number of harmful effects on the respiratory system, including difficulty breathing, inflammation of the airways, and aggravation of lung diseases such as asthma and chronic obstructive pulmonary disease, and increased premature death from heart or lung disease. The EPA also revised the level of the secondary 8-hour ozone standard from 0.075 ppm to 0.070 ppm to protect against welfare effects, including impacts on sensitive vegetation and forested ecosystems.

VI. CAA Requirements

When the EPA promulgates a new or revised NAAQS, the EPA is required to designate areas as Nonattainment, Attainment, or Unclassifiable, pursuant to section 107(d)(1) of the CAA. Section 107(d)(1)(A)(i) of the CAA defines a Nonattainment area as, “any area that does not meet (or that contributes to ambient air quality in a nearby area that does not meet) the national primary or secondary ambient air quality standard for the pollutant.” If an area meets either prong of this definition, then the EPA is obligated to designate the area as “Nonattainment.” CAA section 107(d)(1)(A)(ii) defines an Attainment area as any area that does not meet the definition of Nonattainment and that meets the NAAQS. CAA section 107(d)(1)(A)(iii) provides that any area that the EPA cannot designate on the basis of available information as meeting or not meeting the standards should be designated as “Unclassifiable.” Historically for ozone, the EPA designates most areas that do not meet the definition of Nonattainment as “Unclassifiable/Attainment.” In a few instances, based on circumstances where some monitoring data are available but is not sufficient for a determination that an area is or is not attaining the NAAQS, the EPA has designated an area as “Unclassifiable.”

Section 107(d)(1)(B) of the CAA requires the EPA to issue initial area designations within 2 years of promulgating a new or revised NAAQS. However, if the Administrator has insufficient information to make these designations within that time frame, the EPA has the authority to extend the deadline for designation decisions by up to 1 additional year.

By not later than 1 year after the promulgation of a new or revised NAAQS, each state governor is required by the CAA to recommend air quality designations, including the appropriate boundaries for areas, to the EPA. The EPA reviews those state recommendations and is authorized to make any modifications the Administrator deems necessary. The statute does not define the term “necessary,” but the EPA interprets this to authorize the Administrator to modify designation recommendations that are inconsistent with the statutory definitions of nonattainment, attainment and unclassifiable, including modification of recommended boundaries for nonattainment areas that are not supported by the facts or analysis. If the EPA intends to modify a state's recommendation, section 107(d)(1)(B) of the CAA requires the EPA to notify the state of any such intended modifications not less than 120 days prior to the EPA's promulgation of the final designation. These notifications are commonly known as the “120-day letters.” If the state does not agree with the EPA's intended modification, the 120-day period provides an opportunity for the state to demonstrate to the EPA why it believes any modification proposed by the EPA is inappropriate. If a state fails to provide any recommendation for an area, in whole or in part, the EPA must promulgate a designation that the Administrator deems appropriate.

The terms “contributes to” and “nearby” in the definition of a nonattainment area are not defined in the statute and the EPA has discretion to interpret these ambiguous terms, based on considerations such as the nature of a specific pollutant, the types of sources that may contribute to violations, the form of the standards for the pollutant, and other relevant information. The EPA does not interpret the statute to require the agency to establish bright line tests or thresholds for what constitutes “contribution” or “nearby” for purposes of designations.⁶

⁶ This view was confirmed in Catawba County v. EPA, 571 F.3d 20 (D.C. Cir. 2009).

Section 301(d) of the CAA authorizes the EPA to approve eligible Indian tribes to implement provisions of the CAA on Indian reservations and other areas within the tribes' jurisdiction. The Tribal Authority Rule (TAR) (40 CFR part 49), which implements section 301(d) of the CAA, sets forth the criteria and process for tribes to apply to the EPA for eligibility to administer CAA programs. The designations process contained in section 107(d) of the CAA is included among those provisions determined to be appropriate by the EPA for treatment of tribes in the same manner as states. Under the TAR, tribes generally are not subject to the same submission schedules imposed by the CAA on states. As authorized by the TAR, tribes may seek eligibility to submit designation recommendations to the EPA.

VII. Environmental Justice Concerns

When the EPA establishes a new or revised NAAQS, the CAA requires the EPA to designate all areas of the United States as either nonattainment, attainment, or unclassifiable. This final action addresses designation determinations for 2,649 counties including Indian Country located in those counties, two separate areas of Indian country, and five territories for the 2015 ozone NAAQS. Area designations address environmental justice concerns by ensuring that the public is properly informed about the air quality in an area. In locations where air quality does not meet the NAAQS, the CAA requires relevant state authorities to initiate appropriate air quality management actions to ensure that all those residing, working, attending school, or otherwise present in those areas are protected, regardless of minority and economic status.

VIII. Statutory and Executive Order Reviews

A. Executive Order 12866: Regulatory Planning and Review and Executive Order 13563: Improving Regulation and Regulatory Review

This action is exempt from review by the Office of Management and Budget because it responds to the CAA requirement to promulgate air quality designations after promulgation of a new or revised NAAQS.

B. Executive Order 13771: Reducing Regulations and Controlling Regulatory Costs

This action is not an Executive Order 13771 regulatory action because actions such as air quality designations after promulgating a new revised NAAQS are exempt under Executive Order 12866.

C. Paperwork Reduction Act (PRA)

This action does not impose an information collection burden under the PRA. This action fulfills the non-discretionary duty for the EPA to promulgate air quality designations after promulgation of a new or revised NAAQS and does not contain any information collection activities.

D. Regulatory Flexibility Act (RFA)

This designation action under CAA section 107(d) is not subject to the RFA. The RFA applies only to rules subject to notice-and-comment rulemaking requirements under the APA, 5 U.S.C. 553, or any other statute. Section 107(d)(2)(B) of the CAA explicitly provides that designations are exempt from the notice-and-comment provisions of the APA. In addition, designations under CAA section 107(d) are not among the list of actions that are subject to the notice-and-comment rulemaking requirements of CAA section 307(d).

E. Unfunded Mandates Reform Act (UMRA)

This action does not contain any unfunded mandate as described in UMRA, 2 U.S.C. 1531-1538 and does not significantly or uniquely affect small governments. The action imposes no enforceable duty on any state, local or tribal governments or the private sector.

F. Executive Order 13132: Federalism

This action does not have federalism implications. It will not have substantial direct effects on the states, on the relationship between the national government and the states, or on the distribution of power and responsibilities among the various levels of government. The division of responsibility between the federal government and the states for purposes of implementing the NAAQS is established under the CAA.

G. Executive Order 13175: Consultation and Coordination With Indian Tribal Government

This action does not have tribal implications. It will neither impose substantial direct compliance costs on federally recognized tribal governments, nor preempt tribal law. The CAA provides for states and eligible tribes to develop plans to regulate emissions of air pollutants within their areas, as necessary, based on the designations. The TAR provides tribes the opportunity to apply for eligibility to develop and implement CAA programs, such as programs to attain and maintain the ozone NAAQS, but it leaves to the discretion of the tribe the decision of whether to apply to develop these programs and which programs, or appropriate elements of a program, the tribe will seek to adopt. This rule does not have a substantial direct effect on one or more Indian tribes.

H. Executive Order 13045: Protection of Children From Environmental Health and Safety Risks

The EPA interprets Executive Order 13045 as applying to those regulatory actions that concern environmental health or safety risks that the EPA has reason to believe may disproportionately affect children, per the definition of “covered regulatory action” in section 2-202 of the Executive Order. This action is not subject to Executive Order 13045 because it does not establish an environmental standard intended to mitigate health or safety risks.

I. Executive Order 13211: Actions That Significantly Affect Energy Supply, Distribution or Use

This action is not subject to Executive Order 13211 because it is not a significant regulatory action under Executive Order 12866.

J. National Technology Transfer and Advancement Act (NTTAA)

This rulemaking does not involve technical standards.

K. Executive Order 12898: Federal Actions To Address Environmental Justice in Minority Populations and Low-Income Populations

The EPA believes that this action does not have disproportionately high and adverse human health or environmental effects on minority populations, low-income populations and/or indigenous peoples, as specified in Executive Order 12898 (59 FR 7629, February 16, 1994). The documentation for this determination is contained in Section VII of this preamble, “Environmental Justice Concerns.”

L. Congressional Review Act (CRA)

This action is subject to the CRA, and the EPA will submit a rule report to each House of the Congress and to the Comptroller General of the U.S. This action is not a “major rule” as defined by 5 U.S.C. 804(2).

M. Judicial Review

Section 307(b)(1) of the CAA indicates which Federal Courts of Appeal have venue for petitions for review of final actions by the EPA. This section provides, in part, that petitions for review must be filed in the Court of Appeals for the District of Columbia Circuit for: (i) “Any nationally applicable regulations promulgated, or final actions taken, by the Administrator,” or (ii) when such action is locally or regionally applicable, “if such action is based on a determination of nationwide scope or effect and if in taking such action the Administrator finds and publishes that such action is based on such a determination.”

This rule designates areas for the 2015 ozone NAAQS is “nationally applicable” within the meaning of CAA section 307(b)(1). This rule establishes designations for areas across the U.S. for the 2015 ozone NAAQS. At the core of this rulemaking is the EPA's interpretation of the designation provisions in section 107(d)(1) of the CAA, and its application of that interpretation to areas across the country.

For the same reasons, the Administrator also is determining that the final designations are of nationwide scope and effect for the purposes of CAA section 307(b)(1). This is particularly appropriate because, in the report on the 1977 Amendments that revised section 307(b)(1) of the CAA, Congress noted that the Administrator's determination that an action is of “nationwide scope or effect” would be appropriate for any action that has a scope or effect beyond a single judicial circuit. H.R. Rep. No. 95-294 at 323, 324, reprinted in 1977 U.S.C.C.A.N. 1402-03. Here, the scope and effect of this rulemaking extends to numerous judicial circuits since the designations apply to areas across the country. In these circumstances, CAA section 307(b)(1) and its legislative history calls for the Administrator to find the rule to be of “nationwide scope or effect” and for venue to be in the District of Columbia Circuit.

Thus, any petitions for review of final designations must be filed in the Court of Appeals for the District of Columbia Circuit within 60 days from the date final action is published in the Federal Register.

List of Subjects in 40 CFR Part 81

Environmental protection, Air pollution control, National parks, Wilderness areas.

Dated: November 6, 2017.
E. Scott Pruitt,
Administrator.

For the reasons set forth in the preamble, 40 CFR part 81 is amended as follows:

PART 81—DESIGNATION OF AREAS FOR AIR QUALITY PLANNING PURPOSES

1. The authority citation for part 81 continues to read as follows:

Authority: 42 U.S.C. 7401, et seq.

Subpart C—Section 107 Attainment Status Designations

2. Section 81.301 is amended by adding a table titled “Alabama—2015 8-Hour Ozone NAAQS (Primary and Secondary)” following the table titled “Alabama—2008 8-Hour Ozone NAAQS (Primary and secondary)” to read as follows:

§ 81.301 Alabama.

* * * * *

Alabama—2015 8-Hour Ozone NAAQS
[Primary and Secondary]
Designated area ¹ | Designation: Date ² | Designation: Type | Classification: Date | Classification: Type
Autauga County |  | Attainment/Unclassifiable
Baldwin County |  | Attainment/Unclassifiable
Barbour County |  | Attainment/Unclassifiable
Bibb County |  | Attainment/Unclassifiable
Blount County |  | Attainment/Unclassifiable
Bullock County |  | Attainment/Unclassifiable
Butler County |  | Attainment/Unclassifiable
Calhoun County |  | Attainment/Unclassifiable
Chambers County |  | Attainment/Unclassifiable
Cherokee County |  | Attainment/Unclassifiable
Chilton County |  | Attainment/Unclassifiable
Choctaw County |  | Attainment/Unclassifiable
Clarke County |  | Attainment/Unclassifiable
Clay County |  | Attainment/Unclassifiable
Cleburne County |  | Attainment/Unclassifiable
Coffee County |  | Attainment/Unclassifiable
Colbert County |  | Attainment/Unclassifiable
Conecuh County |  | Attainment/Unclassifiable
Coosa County |  | Attainment/Unclassifiable
Covington County |  | Attainment/Unclassifiable
Crenshaw County |  | Attainment/Unclassifiable
Cullman County |  | Attainment/Unclassifiable
Dale County |  | Attainment/Unclassifiable
Dallas County |  | Attainment/Unclassifiable
DeKalb County |  | Attainment/Unclassifiable
Elmore County |  | Attainment/Unclassifiable
Escambia County |  | Attainment/Unclassifiable
Etowah County |  | Attainment/Unclassifiable
Fayette County |  | Attainment/Unclassifiable
Franklin County |  | Attainment/Unclassifiable
Geneva County |  | Attainment/Unclassifiable
Greene County |  | Attainment/Unclassifiable
Hale County |  | Attainment/Unclassifiable
Henry County |  | Attainment/Unclassifiable
Houston County |  | Attainment/Unclassifiable
Jackson County |  | Attainment/Unclassifiable
Jefferson County |  | Attainment/Unclassifiable
Lamar County |  | Attainment/Unclassifiable
Lauderdale County |  | Attainment/Unclassifiable
Lawrence County |  | Attainment/Unclassifiable
Lee County |  | Attainment/Unclassifiable
Limestone County |  | Attainment/Unclassifiable
Lowndes County |  | Attainment/Unclassifiable
Macon County |  | Attainment/Unclassifiable
Madison County |  | Attainment/Unclassifiable
Marengo County |  | Attainment/Unclassifiable
Marion County |  | Attainment/Unclassifiable
Marshall County |  | Attainment/Unclassifiable
Mobile County |  | Attainment/Unclassifiable
Monroe County |  | Attainment/Unclassifiable
Montgomery County |  | Attainment/Unclassifiable
Morgan County |  | Attainment/Unclassifiable
Perry County |  | Attainment/Unclassifiable
Pickens County |  | Attainment/Unclassifiable
Pike County |  | Attainment/Unclassifiable
Randolph County |  | Attainment/Unclassifiable
Russell County |  | Attainment/Unclassifiable
Shelby County |  | Attainment/Unclassifiable
St. Clair County |  | Attainment/Unclassifiable
Sumter County |  | Attainment/Unclassifiable
Talladega County |  | Attainment/Unclassifiable
Tallapoosa County |  | Attainment/Unclassifiable
Tuscaloosa County |  | Attainment/Unclassifiable
Walker County |  | Attainment/Unclassifiable
Washington County |  | Attainment/Unclassifiable
Wilcox County |  | Attainment/Unclassifiable
Winston County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

3. Section 81.302 is amended by adding a table titled “Alaska—2015 8-Hour Ozone NAAQS (Primary and Secondary)” following the table titled “Alaska—2008 8-Hour Ozone NAAQS (Primary and secondary)” to read as follows:

§ 81.302 Alaska.

* * * * *

Alaska—2015 8-Hour Ozone NAAQS
[Primary and Secondary]
Designated area ¹ | Designation: Date ² | Designation: Type | Classification: Date | Classification: Type
Aleutians East Borough |  | Attainment/Unclassifiable
Aleutians West Census Area |  | Attainment/Unclassifiable
Bethel Census Area |  | Attainment/Unclassifiable
Bristol Bay Borough |  | Attainment/Unclassifiable
Denali Borough |  | Attainment/Unclassifiable
Dillingham Census Area |  | Attainment/Unclassifiable
Fairbanks North Star Borough |  | Attainment/Unclassifiable
Haines Borough |  | Attainment/Unclassifiable
Hoonah-Angoon Census Area |  | Attainment/Unclassifiable
Juneau City and Borough |  | Attainment/Unclassifiable
Kenai Peninsula Borough |  | Attainment/Unclassifiable
Ketchikan Gateway Borough |  | Attainment/Unclassifiable
Kodiak Island Borough |  | Attainment/Unclassifiable
Kusilvak Census Area |  | Attainment/Unclassifiable
Lake and Peninsula Borough |  | Attainment/Unclassifiable
Nome Census Area |  | Attainment/Unclassifiable
North Slope Borough |  | Attainment/Unclassifiable
Northwest Arctic Borough |  | Attainment/Unclassifiable
Petersburg Borough |  | Attainment/Unclassifiable
Prince of Wales-Hyder Census Area |  | Attainment/Unclassifiable
Sitka City and Borough |  | Attainment/Unclassifiable
Skagway Municipality |  | Attainment/Unclassifiable
Southeast Fairbanks Census Area |  | Attainment/Unclassifiable
Valdez-Cordova Census Area |  | Attainment/Unclassifiable
Wrangell City and Borough |  | Attainment/Unclassifiable
Yakutat City and Borough |  | Attainment/Unclassifiable
Yukon-Koyukuk Census Area |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

4. Section 81.303 is amended by adding a table titled “Arizona—2015 8-Hour Ozone NAAQS (Primary and Secondary)” following the table titled “Arizona—2008 8-Hour Ozone NAAQS (Primary and secondary)” to read as follows:

§ 81.303 Arizona.

* * * * *

Arizona—2015 8-Hour Ozone NAAQS
[Primary and Secondary]
Designated area ¹ | Designation: Date ² | Designation: Type | Classification: Date | Classification: Type
Apache County |  | Attainment/Unclassifiable
Cochise County |  | Attainment/Unclassifiable
Greenlee County |  | Attainment/Unclassifiable
Santa Cruz County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

5. Section 81.304 is amended by adding a table titled “Arkansas—2015 8-Hour Ozone NAAQS (Primary and Secondary)” following the table titled “Arkansas—2008 8-Hour Ozone NAAQS (Primary and secondary)” to read as follows:

§ 81.304 Arkansas.

* * * * *

Arkansas—2015 8-Hour Ozone NAAQS
[Primary and Secondary]
Designated area ¹ | Designation: Date ² | Designation: Type | Classification: Date | Classification: Type
Arkansas County |  | Attainment/Unclassifiable
Ashley County |  | Attainment/Unclassifiable
Baxter County |  | Attainment/Unclassifiable
Benton County |  | Attainment/Unclassifiable
Boone County |  | Attainment/Unclassifiable
Bradley County |  | Attainment/Unclassifiable
Calhoun County |  | Attainment/Unclassifiable
Carroll County |  | Attainment/Unclassifiable
Chicot County |  | Attainment/Unclassifiable
Clark County |  | Attainment/Unclassifiable
Clay County |  | Attainment/Unclassifiable
Cleburne County |  | Attainment/Unclassifiable
Cleveland County |  | Attainment/Unclassifiable
Columbia County |  | Attainment/Unclassifiable
Conway County |  | Attainment/Unclassifiable
Craighead County |  | Attainment/Unclassifiable
Crawford County |  | Attainment/Unclassifiable
Crittenden County |  | Attainment/Unclassifiable
Cross County |  | Attainment/Unclassifiable
Dallas County |  | Attainment/Unclassifiable
Desha County |  | Attainment/Unclassifiable
Drew County |  | Attainment/Unclassifiable
Faulkner County |  | Attainment/Unclassifiable
Franklin County |  | Attainment/Unclassifiable
Fulton County |  | Attainment/Unclassifiable
Garland County |  | Attainment/Unclassifiable
Grant County |  | Attainment/Unclassifiable
Greene County |  | Attainment/Unclassifiable
Hempstead County |  | Attainment/Unclassifiable
Hot Spring County |  | Attainment/Unclassifiable
Howard County |  | Attainment/Unclassifiable
Independence County |  | Attainment/Unclassifiable
Izard County |  | Attainment/Unclassifiable
Jackson County |  | Attainment/Unclassifiable
Jefferson County |  | Attainment/Unclassifiable
Johnson County |  | Attainment/Unclassifiable
Lafayette County |  | Attainment/Unclassifiable
Lawrence County |  | Attainment/Unclassifiable
Lee County |  | Attainment/Unclassifiable
Lincoln County |  | Attainment/Unclassifiable
Little River County |  | Attainment/Unclassifiable
Logan County |  | Attainment/Unclassifiable
Lonoke County |  | Attainment/Unclassifiable
Madison County |  | Attainment/Unclassifiable
Marion County |  | Attainment/Unclassifiable
Miller County |  | Attainment/Unclassifiable
Mississippi County |  | Attainment/Unclassifiable
Monroe County |  | Attainment/Unclassifiable
Montgomery County |  | Attainment/Unclassifiable
Nevada County |  | Attainment/Unclassifiable
Newton County |  | Attainment/Unclassifiable
Ouachita County |  | Attainment/Unclassifiable
Perry County |  | Attainment/Unclassifiable
Phillips County |  | Attainment/Unclassifiable
Pike County |  | Attainment/Unclassifiable
Poinsett County |  | Attainment/Unclassifiable
Polk County |  | Attainment/Unclassifiable
Pope County |  | Attainment/Unclassifiable
Prairie County |  | Attainment/Unclassifiable
Pulaski County |  | Attainment/Unclassifiable
Randolph County |  | Attainment/Unclassifiable
St. Francis County |  | Attainment/Unclassifiable
Saline County |  | Attainment/Unclassifiable
Scott County |  | Attainment/Unclassifiable
Searcy County |  | Attainment/Unclassifiable
Sebastian County |  | Attainment/Unclassifiable
Sevier County |  | Attainment/Unclassifiable
Sharp County |  | Attainment/Unclassifiable
Stone County |  | Attainment/Unclassifiable
Union County |  | Attainment/Unclassifiable
Van Buren County |  | Attainment/Unclassifiable
Washington County |  | Attainment/Unclassifiable
White County |  | Attainment/Unclassifiable
Woodruff County |  | Attainment/Unclassifiable
Yell County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

6. Section 81.305 is amended by adding a table titled “California—2015 8-Hour Ozone NAAQS (Primary and Secondary)” following the table titled “California—2008 8-Hour Ozone NAAQS (Primary and secondary)” to read as follows:

§ 81.305 California.

* * * * *

California—2015 8-Hour Ozone NAAQS
[Primary and Secondary]
Designated area ¹ | Designation: Date ² | Designation: Type | Classification: Date | Classification: Type
Del Norte County |  | Attainment/Unclassifiable
Humboldt County |  | Attainment/Unclassifiable
Lake County |  | Attainment/Unclassifiable
Lassen County |  | Attainment/Unclassifiable
Modoc County |  | Attainment/Unclassifiable
Siskiyou County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

7. Section 81.306 is amended by adding a table titled “Colorado—2015 8-Hour Ozone NAAQS (Primary and Secondary)” following the table titled “Colorado—2008 8-Hour Ozone NAAQS (Primary and secondary)” to read as follows:

§ 81.306 Colorado.

* * * * *

Colorado—2015 8-Hour Ozone NAAQS
[Primary and Secondary]
Designated area ¹ | Designation: Date ² | Designation: Type | Classification: Date | Classification: Type
Alamosa County |  | Attainment/Unclassifiable
Archuleta County |  | Attainment/Unclassifiable
Baca County |  | Attainment/Unclassifiable
Bent County |  | Attainment/Unclassifiable
Chaffee County |  | Attainment/Unclassifiable
Cheyenne County |  | Attainment/Unclassifiable
Conejos County |  | Attainment/Unclassifiable
Costilla County |  | Attainment/Unclassifiable
Crowley County |  | Attainment/Unclassifiable
Custer County |  | Attainment/Unclassifiable
Delta County |  | Attainment/Unclassifiable
Dolores County |  | Attainment/Unclassifiable
Eagle County |  | Attainment/Unclassifiable
Fremont County |  | Attainment/Unclassifiable
Gunnison County |  | Attainment/Unclassifiable
Hinsdale County |  | Attainment/Unclassifiable
Huerfano County |  | Attainment/Unclassifiable
Kiowa County |  | Attainment/Unclassifiable
Kit Carson County |  | Attainment/Unclassifiable
Lake County |  | Attainment/Unclassifiable
La Plata County |  | Attainment/Unclassifiable
Las Animas County |  | Attainment/Unclassifiable
Lincoln County |  | Attainment/Unclassifiable
Logan County |  | Attainment/Unclassifiable
Mesa County |  | Attainment/Unclassifiable
Mineral County |  | Attainment/Unclassifiable
Montezuma County |  | Attainment/Unclassifiable
Montrose County |  | Attainment/Unclassifiable
Morgan County |  | Attainment/Unclassifiable
Otero County |  | Attainment/Unclassifiable
Ouray County |  | Attainment/Unclassifiable
Phillips County |  | Attainment/Unclassifiable
Pitkin County |  | Attainment/Unclassifiable
Prowers County |  | Attainment/Unclassifiable
Pueblo County |  | Attainment/Unclassifiable
Rio Grande County |  | Attainment/Unclassifiable
Routt County |  | Attainment/Unclassifiable
Saguache County |  | Attainment/Unclassifiable
San Juan County |  | Attainment/Unclassifiable
San Miguel County |  | Attainment/Unclassifiable
Sedgwick County |  | Attainment/Unclassifiable
Summit County |  | Attainment/Unclassifiable
Washington County |  | Attainment/Unclassifiable
Yuma County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

8. Section 81.310 is amended by adding a table titled “Florida—2015 8-Hour Ozone NAAQS (Primary and Secondary)” following the table titled “Florida—2008 8-Hour Ozone NAAQS (Primary and secondary)” to read as follows:

§ 81.310 Florida.

* * * * *

Florida—2015 8-Hour Ozone NAAQS
[Primary and Secondary]
Designated area ¹ | Designation: Date ² | Designation: Type | Classification: Date | Classification: Type
Alachua County |  | Attainment/Unclassifiable
Bay County |  | Attainment/Unclassifiable
Bradford County |  | Attainment/Unclassifiable
Brevard County |  | Attainment/Unclassifiable
Broward County |  | Attainment/Unclassifiable
Calhoun County |  | Attainment/Unclassifiable
Charlotte County |  | Attainment/Unclassifiable
Citrus County |  | Attainment/Unclassifiable
Collier County |  | Attainment/Unclassifiable
Columbia County |  | Attainment/Unclassifiable
DeSoto County |  | Attainment/Unclassifiable
Dixie County |  | Attainment/Unclassifiable
Escambia County |  | Attainment/Unclassifiable
Flagler County |  | Attainment/Unclassifiable
Franklin County |  | Attainment/Unclassifiable
Gadsden County |  | Attainment/Unclassifiable
Gilchrist County |  | Attainment/Unclassifiable
Glades County |  | Attainment/Unclassifiable
Gulf County |  | Attainment/Unclassifiable
Hamilton County |  | Attainment/Unclassifiable
Hardee County |  | Attainment/Unclassifiable
Hendry County |  | Attainment/Unclassifiable
Hernando County |  | Attainment/Unclassifiable
Highlands County |  | Attainment/Unclassifiable
Hillsborough County |  | Attainment/Unclassifiable
Holmes County |  | Attainment/Unclassifiable
Indian River County |  | Attainment/Unclassifiable
Jackson County |  | Attainment/Unclassifiable
Jefferson County |  | Attainment/Unclassifiable
Lafayette County |  | Attainment/Unclassifiable
Lake County |  | Attainment/Unclassifiable
Lee County |  | Attainment/Unclassifiable
Leon County |  | Attainment/Unclassifiable
Levy County |  | Attainment/Unclassifiable
Liberty County |  | Attainment/Unclassifiable
Madison County |  | Attainment/Unclassifiable
Manatee County |  | Attainment/Unclassifiable
Marion County |  | Attainment/Unclassifiable
Martin County |  | Attainment/Unclassifiable
Miami-Dade County |  | Attainment/Unclassifiable
Monroe County |  | Attainment/Unclassifiable
Okaloosa County |  | Attainment/Unclassifiable
Okeechobee County |  | Attainment/Unclassifiable
Orange County |  | Attainment/Unclassifiable
Osceola County |  | Attainment/Unclassifiable
Palm Beach County |  | Attainment/Unclassifiable
Pasco County |  | Attainment/Unclassifiable
Pinellas County |  | Attainment/Unclassifiable
Polk County |  | Attainment/Unclassifiable
St. Lucie County |  | Attainment/Unclassifiable
Santa Rosa County |  | Attainment/Unclassifiable
Sarasota County |  | Attainment/Unclassifiable
Seminole County |  | Attainment/Unclassifiable
Sumter County |  | Attainment/Unclassifiable
Suwannee County |  | Attainment/Unclassifiable
Taylor County |  | Attainment/Unclassifiable
Union County |  | Attainment/Unclassifiable
Volusia County |  | Attainment/Unclassifiable
Wakulla County |  | Attainment/Unclassifiable
Walton County |  | Attainment/Unclassifiable
Washington County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

9. Section 81.311 is amended by adding a table titled “Georgia—2015 8-Hour Ozone NAAQS (Primary and Secondary)” following the table titled “Georgia—2008 8-Hour Ozone NAAQS (Primary and secondary)” to read as follows:

§ 81.311 Georgia.

* * * * *

Georgia—2015 8-Hour Ozone NAAQS
[Primary and Secondary]
Designated area ¹ | Designation: Date ² | Designation: Type | Classification: Date | Classification: Type
Appling County |  | Attainment/Unclassifiable
Atkinson County |  | Attainment/Unclassifiable
Bacon County |  | Attainment/Unclassifiable
Baker County |  | Attainment/Unclassifiable
Baldwin County |  | Attainment/Unclassifiable
Banks County |  | Attainment/Unclassifiable
Ben Hill County |  | Attainment/Unclassifiable
Berrien County |  | Attainment/Unclassifiable
Bibb County |  | Attainment/Unclassifiable
Bleckley County |  | Attainment/Unclassifiable
Brantley County |  | Attainment/Unclassifiable
Brooks County |  | Attainment/Unclassifiable
Bryan County |  | Attainment/Unclassifiable
Bulloch County |  | Attainment/Unclassifiable
Burke County |  | Attainment/Unclassifiable
Calhoun County |  | Attainment/Unclassifiable
Candler County |  | Attainment/Unclassifiable
Catoosa County |  | Attainment/Unclassifiable
Charlton County |  | Attainment/Unclassifiable
Chatham County |  | Attainment/Unclassifiable
Chattahoochee County |  | Attainment/Unclassifiable
Chattooga County |  | Attainment/Unclassifiable
Clay County |  | Attainment/Unclassifiable
Clinch County |  | Attainment/Unclassifiable
Coffee County |  | Attainment/Unclassifiable
Colquitt County |  | Attainment/Unclassifiable
Columbia County |  | Attainment/Unclassifiable
Cook County |  | Attainment/Unclassifiable
Crawford County |  | Attainment/Unclassifiable
Crisp County |  | Attainment/Unclassifiable
Dade County |  | Attainment/Unclassifiable
Decatur County |  | Attainment/Unclassifiable
Dodge County |  | Attainment/Unclassifiable
Dooly County |  | Attainment/Unclassifiable
Dougherty County |  | Attainment/Unclassifiable
Early County |  | Attainment/Unclassifiable
Echols County |  | Attainment/Unclassifiable
Effingham County |  | Attainment/Unclassifiable
Elbert County |  | Attainment/Unclassifiable
Emanuel County |  | Attainment/Unclassifiable
Evans County |  | Attainment/Unclassifiable
Fannin County |  | Attainment/Unclassifiable
Floyd County |  | Attainment/Unclassifiable
Franklin County |  | Attainment/Unclassifiable
Gilmer County |  | Attainment/Unclassifiable
Glascock County |  | Attainment/Unclassifiable
Glynn County |  | Attainment/Unclassifiable
Grady County |  | Attainment/Unclassifiable
Greene County |  | Attainment/Unclassifiable
Habersham County |  | Attainment/Unclassifiable
Hancock County |  | Attainment/Unclassifiable
Harris County |  | Attainment/Unclassifiable
Hart County |  | Attainment/Unclassifiable
Houston County |  | Attainment/Unclassifiable
Irwin County |  | Attainment/Unclassifiable
Jeff Davis County |  | Attainment/Unclassifiable
Jefferson County |  | Attainment/Unclassifiable
Jenkins County |  | Attainment/Unclassifiable
Johnson County |  | Attainment/Unclassifiable
Jones County |  | Attainment/Unclassifiable
Lanier County |  | Attainment/Unclassifiable
Laurens County |  | Attainment/Unclassifiable
Lee County |  | Attainment/Unclassifiable
Liberty County |  | Attainment/Unclassifiable
Lincoln County |  | Attainment/Unclassifiable
Long County |  | Attainment/Unclassifiable
Lowndes County |  | Attainment/Unclassifiable
Lumpkin County |  | Attainment/Unclassifiable
McDuffie County |  | Attainment/Unclassifiable
McIntosh County |  | Attainment/Unclassifiable
Macon County |  | Attainment/Unclassifiable
Marion County |  | Attainment/Unclassifiable
Miller County |  | Attainment/Unclassifiable
Mitchell County |  | Attainment/Unclassifiable
Monroe County |  | Attainment/Unclassifiable
Montgomery County |  | Attainment/Unclassifiable
Murray County |  | Attainment/Unclassifiable
Muscogee County |  | Attainment/Unclassifiable
Peach County |  | Attainment/Unclassifiable
Pierce County |  | Attainment/Unclassifiable
Pulaski County |  | Attainment/Unclassifiable
Putnam County |  | Attainment/Unclassifiable
Quitman County |  | Attainment/Unclassifiable
Rabun County |  | Attainment/Unclassifiable
Randolph County |  | Attainment/Unclassifiable
Richmond County |  | Attainment/Unclassifiable
Schley County |  | Attainment/Unclassifiable
Screven County |  | Attainment/Unclassifiable
Seminole County |  | Attainment/Unclassifiable
Stephens County |  | Attainment/Unclassifiable
Stewart County |  | Attainment/Unclassifiable
Sumter County |  | Attainment/Unclassifiable
Talbot County |  | Attainment/Unclassifiable
Taliaferro County |  | Attainment/Unclassifiable
Tattnall County |  | Attainment/Unclassifiable
Taylor County |  | Attainment/Unclassifiable
Telfair County |  | Attainment/Unclassifiable
Terrell County |  | Attainment/Unclassifiable
Thomas County |  | Attainment/Unclassifiable
Tift County |  | Attainment/Unclassifiable
Toombs County |  | Attainment/Unclassifiable
Towns County |  | Attainment/Unclassifiable
Treutlen County |  | Attainment/Unclassifiable
Turner County |  | Attainment/Unclassifiable
Twiggs County |  | Attainment/Unclassifiable
Union County |  | Attainment/Unclassifiable
Walker County |  | Attainment/Unclassifiable
Ware County |  | Attainment/Unclassifiable
Warren County |  | Attainment/Unclassifiable
Washington County |  | Attainment/Unclassifiable
Wayne County |  | Attainment/Unclassifiable
Webster County |  | Attainment/Unclassifiable
Wheeler County |  | Attainment/Unclassifiable
White County |  | Attainment/Unclassifiable
Whitfield County |  | Attainment/Unclassifiable
Wilcox County |  | Attainment/Unclassifiable
Wilkes County |  | Attainment/Unclassifiable
Wilkinson County |  | Attainment/Unclassifiable
Worth County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

10. Section 81.312 is amended by adding a table titled “Hawaii—2015 8-Hour Ozone NAAQS (Primary and Secondary)” following the table titled “Hawaii—2008 8-Hour Ozone NAAQS (Primary and secondary)” to read as follows:

§ 81.312 Hawaii.

* * * * *

Hawaii—2015 8-Hour Ozone NAAQS
[Primary and Secondary]
Designated area ¹ | Designation: Date ² | Designation: Type | Classification: Date | Classification: Type
Hawaii County |  | Attainment/Unclassifiable
Honolulu County |  | Attainment/Unclassifiable
Kalawao County |  | Attainment/Unclassifiable
Kauai County |  | Attainment/Unclassifiable
Maui County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

11. Section 81.313 is amended by adding a table titled “Idaho—2015 8-Hour Ozone NAAQS (Primary and Secondary)” following the table titled “Idaho—2008 8-Hour Ozone NAAQS (Primary and secondary)” to read as follows:

§ 81.313 Idaho.

* * * * *

Idaho—2015 8-Hour Ozone NAAQS
[Primary and Secondary]
Designated area ¹ | Designation: Date ² | Designation: Type | Classification: Date | Classification: Type
Statewide |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

12. Section 81.314 is amended by adding a table titled “Illinois—2015 8-Hour Ozone NAAQS (Primary and Secondary)” following the table titled “Illinois—2008 8-Hour Ozone NAAQS (Primary and secondary)” to read as follows:

§ 81.314 Illinois.

* * * * *

Illinois—2015 8-Hour Ozone NAAQS
[Primary and Secondary]
Designated area ¹ | Designation: Date ² | Designation: Type | Classification: Date | Classification: Type
Adams County |  | Attainment/Unclassifiable
Alexander County |  | Attainment/Unclassifiable
Boone County |  | Attainment/Unclassifiable
Brown County |  | Attainment/Unclassifiable
Carroll County |  | Attainment/Unclassifiable
Cass County |  | Attainment/Unclassifiable
Champaign County |  | Attainment/Unclassifiable
Christian County |  | Attainment/Unclassifiable
Clark County |  | Attainment/Unclassifiable
Clay County |  | Attainment/Unclassifiable
Coles County |  | Attainment/Unclassifiable
Crawford County |  | Attainment/Unclassifiable
Cumberland County |  | Attainment/Unclassifiable
De Witt County |  | Attainment/Unclassifiable
Douglas County |  | Attainment/Unclassifiable
Edgar County |  | Attainment/Unclassifiable
Edwards County |  | Attainment/Unclassifiable
Effingham County |  | Attainment/Unclassifiable
Fayette County |  | Attainment/Unclassifiable
Ford County |  | Attainment/Unclassifiable
Franklin County |  | Attainment/Unclassifiable
Fulton County |  | Attainment/Unclassifiable
Gallatin County |  | Attainment/Unclassifiable
Greene County |  | Attainment/Unclassifiable
Hamilton County |  | Attainment/Unclassifiable
Hancock County |  | Attainment/Unclassifiable
Hardin County |  | Attainment/Unclassifiable
Henderson County |  | Attainment/Unclassifiable
Henry County |  | Attainment/Unclassifiable
Iroquois County |  | Attainment/Unclassifiable
Jackson County |  | Attainment/Unclassifiable
Jasper County |  | Attainment/Unclassifiable
Jefferson County |  | Attainment/Unclassifiable
Jo Daviess County |  | Attainment/Unclassifiable
Johnson County |  | Attainment/Unclassifiable
Knox County |  | Attainment/Unclassifiable
Lawrence County |  | Attainment/Unclassifiable
Lee County |  | Attainment/Unclassifiable
Livingston County |  | Attainment/Unclassifiable
Logan County |  | Attainment/Unclassifiable
McDonough County |  | Attainment/Unclassifiable
McLean County |  | Attainment/Unclassifiable
Macon County |  | Attainment/Unclassifiable
Marshall County |  | Attainment/Unclassifiable
Mason County |  | Attainment/Unclassifiable
Massac County |  | Attainment/Unclassifiable
Menard County |  | Attainment/Unclassifiable
Mercer County |  | Attainment/Unclassifiable
Montgomery County |  | Attainment/Unclassifiable
Morgan County |  | Attainment/Unclassifiable
Moultrie County |  | Attainment/Unclassifiable
Ogle County |  | Attainment/Unclassifiable
Peoria County |  | Attainment/Unclassifiable
Perry County |  | Attainment/Unclassifiable
Piatt County |  | Attainment/Unclassifiable
Pike County |  | Attainment/Unclassifiable
Pope County |  | Attainment/Unclassifiable
Pulaski County |  | Attainment/Unclassifiable
Randolph County |  | Attainment/Unclassifiable
Richland County |  | Attainment/Unclassifiable
Rock Island County |  | Attainment/Unclassifiable
Saline County |  | Attainment/Unclassifiable
Sangamon County |  | Attainment/Unclassifiable
Schuyler County |  | Attainment/Unclassifiable
Scott County |  | Attainment/Unclassifiable
Shelby County |  | Attainment/Unclassifiable
Stark County |  | Attainment/Unclassifiable
Stephenson County |  | Attainment/Unclassifiable
Tazewell County |  | Attainment/Unclassifiable
Union County |  | Attainment/Unclassifiable
Vermilion County |  | Attainment/Unclassifiable
Wabash County |  | Attainment/Unclassifiable
Warren County |  | Attainment/Unclassifiable
Washington County |  | Attainment/Unclassifiable
Wayne County |  | Attainment/Unclassifiable
White County |  | Attainment/Unclassifiable
Whiteside County |  | Attainment/Unclassifiable
Williamson County |  | Attainment/Unclassifiable
Winnebago County |  | Attainment/Unclassifiable
Woodford County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

13. Section 81.315 is amended by adding a table titled “Indiana—2015 8-Hour Ozone NAAQS (Primary and Secondary)” following the table titled “Indiana—2008 8-Hour Ozone NAAQS (Primary and secondary)” to read as follows:

§ 81.315 Indiana.

* * * * *

Indiana—2015 8-Hour Ozone NAAQS
[Primary and Secondary]
Designated area ¹ | Designation: Date ² | Designation: Type | Classification: Date | Classification: Type
Adams County |  | Attainment/Unclassifiable
Allen County |  | Attainment/Unclassifiable
Bartholomew County |  | Attainment/Unclassifiable
Benton County |  | Attainment/Unclassifiable
Blackford County |  | Attainment/Unclassifiable
Boone County |  | Attainment/Unclassifiable
Brown County |  | Attainment/Unclassifiable
Carroll County |  | Attainment/Unclassifiable
Cass County |  | Attainment/Unclassifiable
Clay County |  | Attainment/Unclassifiable
Clinton County |  | Attainment/Unclassifiable
Crawford County |  | Attainment/Unclassifiable
Daviess County |  | Attainment/Unclassifiable
Decatur County |  | Attainment/Unclassifiable
DeKalb County |  | Attainment/Unclassifiable
Delaware County |  | Attainment/Unclassifiable
Dubois County |  | Attainment/Unclassifiable
Fayette County |  | Attainment/Unclassifiable
Fountain County |  | Attainment/Unclassifiable
Fulton County |  | Attainment/Unclassifiable
Gibson County |  | Attainment/Unclassifiable
Grant County |  | Attainment/Unclassifiable
Greene County |  | Attainment/Unclassifiable
Hamilton County |  | Attainment/Unclassifiable
Hancock County |  | Attainment/Unclassifiable
Hendricks County |  | Attainment/Unclassifiable
Henry County |  | Attainment/Unclassifiable
Howard County |  | Attainment/Unclassifiable
Huntington County |  | Attainment/Unclassifiable
Jackson County |  | Attainment/Unclassifiable
Jay County |  | Attainment/Unclassifiable
Jennings County |  | Attainment/Unclassifiable
Johnson County |  | Attainment/Unclassifiable
Knox County |  | Attainment/Unclassifiable
Kosciusko County |  | Attainment/Unclassifiable
LaGrange County |  | Attainment/Unclassifiable
Lawrence County |  | Attainment/Unclassifiable
Madison County |  | Attainment/Unclassifiable
Marion County |  | Attainment/Unclassifiable
Martin County |  | Attainment/Unclassifiable
Miami County |  | Attainment/Unclassifiable
Monroe County |  | Attainment/Unclassifiable
Montgomery County |  | Attainment/Unclassifiable
Morgan County |  | Attainment/Unclassifiable
Noble County |  | Attainment/Unclassifiable
Orange County |  | Attainment/Unclassifiable
Owen County |  | Attainment/Unclassifiable
Parke County |  | Attainment/Unclassifiable
Perry County |  | Attainment/Unclassifiable
Pike County |  | Attainment/Unclassifiable
Posey County |  | Attainment/Unclassifiable
Pulaski County |  | Attainment/Unclassifiable
Putnam County |  | Attainment/Unclassifiable
Randolph County |  | Attainment/Unclassifiable
Ripley County |  | Attainment/Unclassifiable
Rush County |  | Attainment/Unclassifiable
Shelby County |  | Attainment/Unclassifiable
Spencer County |  | Attainment/Unclassifiable
Starke County |  | Attainment/Unclassifiable
Steuben County |  | Attainment/Unclassifiable
Sullivan County |  | Attainment/Unclassifiable
Switzerland County |  | Attainment/Unclassifiable
Tippecanoe County |  | Attainment/Unclassifiable
Tipton County |  | Attainment/Unclassifiable
Vanderburgh County |  | Attainment/Unclassifiable
Vermillion County |  | Attainment/Unclassifiable
Vigo County |  | Attainment/Unclassifiable
Wabash County |  | Attainment/Unclassifiable
Warren County |  | Attainment/Unclassifiable
Warrick County |  | Attainment/Unclassifiable
Wayne County |  | Attainment/Unclassifiable
Wells County |  | Attainment/Unclassifiable
White County |  | Attainment/Unclassifiable
Whitley County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

14. Section 81.316 is amended by adding a table titled “Iowa—2015 8-Hour Ozone NAAQS (Primary and Secondary)” following the table titled “Iowa—2008 8-Hour Ozone NAAQS (Primary and secondary)” to read as follows:

§ 81.316 Iowa.

* * * * *

Iowa—2015 8-Hour Ozone NAAQS
[Primary and Secondary]
Designated area ¹ | Designation: Date ² | Designation: Type | Classification: Date | Classification: Type
Statewide |  | Attainment/Unclassifiable
Adair County. |
Adams County. |
Allamakee County. |
Appanoose County. |
Audubon County. |
Benton County. |
Black Hawk County. |
Boone County. |
Bremer County. |
Buchanan County. |
Buena Vista County. |
Butler County. |
Calhoun County. |
Carroll County. |
Cass County. |
Cedar County. |
Cerro Gordo County. |
Cherokee County. |
Chickasaw County. |
Clarke County. |
Clay County. |
Clayton County. |
Clinton County. |
Crawford County. |
Dallas County. |
Davis County. |
Decatur County. |
Delaware County. |
Des Moines County. |
Dickinson County. |
Dubuque County. |
Emmet County. |
Fayette County. |
Floyd County. |
Franklin County. |
Fremont County. |
Greene County. |
Grundy County. |
Guthrie County. |
Hamilton County. |
Hancock County. |
Hardin County. |
Harrison County. |
Henry County. |
Howard County. |
Humboldt County. |
Ida County. |
Iowa County. |
Jackson County. |
Jasper County. |
Jefferson County. |
Johnson County. |
Jones County. |
Keokuk County. |
Kossuth County. |
Lee County. |
Linn County. |
Louisa County. |
Lucas County. |
Lyon County. |
Madison County. |
Mahaska County. |
Marion County. |
Marshall County. |
Mills County. |
Mitchell County. |
Monona County. |
Monroe County. |
Montgomery County. |
Muscatine County. |
O'Brien County. |
Osceola County. |
Page County. |
Palo Alto County. |
Plymouth County. |
Pocahontas County. |
Polk County. |
Pottawattamie County. |
Poweshiek County. |
Ringgold County. |
Sac County. |
Scott County. |
Shelby County. |
Sioux County. |
Story County. |
Tama County. |
Taylor County. |
Union County. |
Van Buren County. |
Wapello County. |
Warren County. |
Washington County. |
Wayne County. |
Webster County. |
Winnebago County. |
Winneshiek County. |
Woodbury County. |
Worth County. |
Wright County. | .
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

15. Section 81.317 is amended by adding a table titled “Kansas—2015 8-Hour Ozone NAAQS (Primary and Secondary)” following the table titled “Kansas—2008 8-Hour Ozone NAAQS (Primary and secondary)” to read as follows:

§ 81.317 Kansas.

* * * * *

Kansas—2015 8-Hour Ozone NAAQS
[Primary and Secondary]
Designated area ¹ | Designation: Date ² | Designation: Type | Classification: Date | Classification: Type
Statewide |  | Attainment/Unclassifiable
Allen County. |
Anderson County. |
Atchison County. |
Barber County. |
Barton County. |
Bourbon County. |
Brown County. |
Butler County. |
Chase County. |
Chautauqua County. |
Cherokee County. |
Cheyenne County. |
Clark County. |
Clay County. |
Cloud County. |
Coffey County. |
Comanche County. |
Cowley County. |
Crawford County. |
Decatur County. |
Dickinson County. |
Doniphan County. |
Douglas County. |
Edwards County. |
Elk County. |
Ellis County. |
Ellsworth County. |
Finney County. |
Ford County. |
Franklin County. |
Geary County. |
Gove County. |
Graham County. |
Grant County. |
Gray County. |
Greeley County. |
Greenwood County. |
Hamilton County. |
Harper County. |
Harvey County. |
Haskell County. |
Hodgeman County. |
Jackson County. |
Jefferson County. |
Jewell County. |
Johnson County. |
Kearny County. |
Kingman County. |
Kiowa County. |
Labette County. |
Lane County. |
Leavenworth County. |
Lincoln County. |
Linn County. |
Logan County. |
Lyon County. |
McPherson County. |
Marion County. |
Marshall County. |
Meade County. |
Miami County. |
Mitchell County. |
Montgomery County. |
Morris County. |
Morton County. |
Nemaha County. |
Neosho County. |
Ness County. |
Norton County. |
Osage County. |
Osborne County. |
Ottawa County. |
Pawnee County. |
Phillips County. |
Pottawatomie County. |
Pratt County. |
Rawlins County. |
Reno County. |
Republic County. |
Rice County. |
Riley County. |
Rooks County. |
Rush County. |
Russell County. |
Saline County. |
Scott County. |
Sedgwick County. |
Seward County. |
Shawnee County. |
Sheridan County. |
Sherman County. |
Smith County. |
Stafford County. |
Stanton County. |
Stevens County. |
Sumner County. |
Thomas County. |
Trego County. |
Wabaunsee County. |
Wallace County. |
Washington County. |
Wichita County. |
Wilson County. |
Woodson County. |
Wyandotte County. |
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

16. Section 81.318 is amended by adding a table titled “Kentucky—2015 8-Hour Ozone NAAQS (Primary and Secondary)” following the table titled “Kentucky—2008 8-Hour Ozone NAAQS (Primary and secondary)” to read as follows:

§ 81.318 Kentucky.

* * * * *

Kentucky—2015 8-Hour Ozone NAAQS
[Primary and Secondary]
Designated area ¹ | Designation: Date ² | Designation: Type | Classification: Date | Classification: Type
Adair County |  | Attainment/Unclassifiable
Allen County |  | Attainment/Unclassifiable
Anderson County |  | Attainment/Unclassifiable
Ballard County |  | Attainment/Unclassifiable
Barren County |  | Attainment/Unclassifiable
Bath County |  | Attainment/Unclassifiable
Bell County |  | Attainment/Unclassifiable
Bourbon County |  | Attainment/Unclassifiable
Boyd County |  | Attainment/Unclassifiable
Boyle County |  | Attainment/Unclassifiable
Breathitt County |  | Attainment/Unclassifiable
Breckinridge County |  | Attainment/Unclassifiable
Butler County |  | Attainment/Unclassifiable
Caldwell County |  | Attainment/Unclassifiable
Calloway County |  | Attainment/Unclassifiable
Carlisle County |  | Attainment/Unclassifiable
Carroll County |  | Attainment/Unclassifiable
Carter County |  | Attainment/Unclassifiable
Casey County |  | Attainment/Unclassifiable
Christian County |  | Attainment/Unclassifiable
Clark County |  | Attainment/Unclassifiable
Clay County |  | Attainment/Unclassifiable
Clinton County |  | Attainment/Unclassifiable
Crittenden County |  | Attainment/Unclassifiable
Cumberland County |  | Attainment/Unclassifiable
Daviess County |  | Attainment/Unclassifiable
Edmonson County |  | Attainment/Unclassifiable
Elliott County |  | Attainment/Unclassifiable
Estill County |  | Attainment/Unclassifiable
Fayette County |  | Attainment/Unclassifiable
Fleming County |  | Attainment/Unclassifiable
Floyd County |  | Attainment/Unclassifiable
Franklin County |  | Attainment/Unclassifiable
Fulton County |  | Attainment/Unclassifiable
Garrard County |  | Attainment/Unclassifiable
Graves County |  | Attainment/Unclassifiable
Grayson County |  | Attainment/Unclassifiable
Green County |  | Attainment/Unclassifiable
Greenup County |  | Attainment/Unclassifiable
Hancock County |  | Attainment/Unclassifiable
Harlan County |  | Attainment/Unclassifiable
Harrison County |  | Attainment/Unclassifiable
Hart County |  | Attainment/Unclassifiable
Henderson County |  | Attainment/Unclassifiable
Hickman County |  | Attainment/Unclassifiable
Hopkins County |  | Attainment/Unclassifiable
Jackson County |  | Attainment/Unclassifiable
Jessamine County |  | Attainment/Unclassifiable
Johnson County |  | Attainment/Unclassifiable
Knott County |  | Attainment/Unclassifiable
Knox County |  | Attainment/Unclassifiable
Laurel County |  | Attainment/Unclassifiable
Lawrence County |  | Attainment/Unclassifiable
Lee County |  | Attainment/Unclassifiable
Leslie County |  | Attainment/Unclassifiable
Letcher County |  | Attainment/Unclassifiable
Lewis County |  | Attainment/Unclassifiable
Lincoln County |  | Attainment/Unclassifiable
Livingston County |  | Attainment/Unclassifiable
Logan County |  | Attainment/Unclassifiable
Lyon County |  | Attainment/Unclassifiable
McCracken County |  | Attainment/Unclassifiable
McCreary County |  | Attainment/Unclassifiable
McLean County |  | Attainment/Unclassifiable
Madison County |  | Attainment/Unclassifiable
Magoffin County |  | Attainment/Unclassifiable
Marion County |  | Attainment/Unclassifiable
Marshall County |  | Attainment/Unclassifiable
Martin County |  | Attainment/Unclassifiable
Menifee County |  | Attainment/Unclassifiable
Mercer County |  | Attainment/Unclassifiable
Metcalfe County |  | Attainment/Unclassifiable
Monroe County |  | Attainment/Unclassifiable
Montgomery County |  | Attainment/Unclassifiable
Morgan County |  | Attainment/Unclassifiable
Muhlenberg County |  | Attainment/Unclassifiable
Nicholas County |  | Attainment/Unclassifiable
Ohio County |  | Attainment/Unclassifiable
Owen County |  | Attainment/Unclassifiable
Owsley County |  | Attainment/Unclassifiable
Perry County |  | Attainment/Unclassifiable
Pike County |  | Attainment/Unclassifiable
Powell County |  | Attainment/Unclassifiable
Pulaski County |  | Attainment/Unclassifiable
Robertson County |  | Attainment/Unclassifiable
Rockcastle County |  | Attainment/Unclassifiable
Rowan County |  | Attainment/Unclassifiable
Russell County |  | Attainment/Unclassifiable
Scott County |  | Attainment/Unclassifiable
Simpson County |  | Attainment/Unclassifiable
Taylor County |  | Attainment/Unclassifiable
Todd County |  | Attainment/Unclassifiable
Trigg County |  | Attainment/Unclassifiable
Union County |  | Attainment/Unclassifiable
Warren County |  | Attainment/Unclassifiable
Washington County |  | Attainment/Unclassifiable
Wayne County |  | Attainment/Unclassifiable
Webster County |  | Attainment/Unclassifiable
Whitley County |  | Attainment/Unclassifiable
Wolfe County |  | Attainment/Unclassifiable
Woodford County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

17. Section 81.319 is amended by adding a table titled “Louisiana—2015 8-Hour Ozone NAAQS (Primary and Secondary)” following the table titled “Louisiana—2008 8-Hour Ozone NAAQS (Primary and secondary)” to read as follows:

§ 81.319 Louisiana.

* * * * *

Louisiana—2015 8-Hour Ozone NAAQS
[Primary and Secondary]
Designated area ¹ | Designation: Date ² | Designation: Type | Classification: Date | Classification: Type
Acadia Parish |  | Attainment/Unclassifiable
Allen Parish |  | Attainment/Unclassifiable
Avoyelles Parish |  | Attainment/Unclassifiable
Beauregard Parish |  | Attainment/Unclassifiable
Bienville Parish |  | Attainment/Unclassifiable
Bossier Parish |  | Attainment/Unclassifiable
Caddo Parish |  | Attainment/Unclassifiable
Calcasieu Parish |  | Attainment/Unclassifiable
Caldwell Parish |  | Attainment/Unclassifiable
Cameron Parish |  | Attainment/Unclassifiable
Catahoula Parish |  | Attainment/Unclassifiable
Claiborne Parish |  | Attainment/Unclassifiable
Concordia Parish |  | Attainment/Unclassifiable
De Soto Parish |  | Attainment/Unclassifiable
East Carroll Parish |  | Attainment/Unclassifiable
Evangeline Parish |  | Attainment/Unclassifiable
Franklin Parish |  | Attainment/Unclassifiable
Grant Parish |  | Attainment/Unclassifiable
Iberia Parish |  | Attainment/Unclassifiable
Jackson Parish |  | Attainment/Unclassifiable
Jefferson Parish |  | Attainment/Unclassifiable
Jefferson Davis Parish |  | Attainment/Unclassifiable
Lafayette Parish |  | Attainment/Unclassifiable
Lafourche Parish |  | Attainment/Unclassifiable
LaSalle Parish |  | Attainment/Unclassifiable
Lincoln Parish |  | Attainment/Unclassifiable
Madison Parish |  | Attainment/Unclassifiable
Morehouse Parish |  | Attainment/Unclassifiable
Natchitoches Parish |  | Attainment/Unclassifiable
Orleans Parish |  | Attainment/Unclassifiable
Ouachita Parish |  | Attainment/Unclassifiable
Plaquemines Parish |  | Attainment/Unclassifiable
Rapides Parish |  | Attainment/Unclassifiable
Red River Parish |  | Attainment/Unclassifiable
Richland Parish |  | Attainment/Unclassifiable
Sabine Parish |  | Attainment/Unclassifiable
St. Bernard Parish |  | Attainment/Unclassifiable
St. Charles Parish |  | Attainment/Unclassifiable
St. John the Baptist Parish |  | Attainment/Unclassifiable
St. Landry Parish |  | Attainment/Unclassifiable
St. Martin Parish |  | Attainment/Unclassifiable
St. Mary Parish |  | Attainment/Unclassifiable
St. Tammany Parish |  | Attainment/Unclassifiable
Tangipahoa Parish |  | Attainment/Unclassifiable
Tensas Parish |  | Attainment/Unclassifiable
Terrebonne Parish |  | Attainment/Unclassifiable
Union Parish |  | Attainment/Unclassifiable
Vermilion Parish |  | Attainment/Unclassifiable
Vernon Parish |  | Attainment/Unclassifiable
Washington Parish |  | Attainment/Unclassifiable
Webster Parish |  | Attainment/Unclassifiable
West Carroll Parish |  | Attainment/Unclassifiable
Winn Parish |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

18. Section 81.320 is amended by adding a table titled “Maine—20158-Hour Ozone NAAQS (Primary and Secondary)” following the table titled “Maine—2008 8-Hour Ozone NAAQS (Primary and secondary)” to read as follows:

§ 81.320 Maine.

* * * * *

Maine—2015 8-Hour Ozone NAAQS
[Primary and Secondary]
Designated area ¹ | Designation: Date ² | Designation: Type | Classification: Date | Classification: Type
Statewide |  | Attainment/Unclassifiable
Androscoggin County
Aroostook County
Cumberland County
Franklin County
Hancock County
Kennebec County
Knox County
Lincoln County
Oxford County
Penobscot County
Piscataquis County
Sagadahoc County
Somerset County
Waldo County
Washington County
York County
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

19. Section 81.321 is amended by adding a table titled “Maryland—2015 8-Hour Ozone NAAQS (Primary and Secondary)” following the table titled “Maryland—2008 8-Hour Ozone NAAQS (Primary and secondary)” to read as follows:

§ 81.321 Maryland.

* * * * *

Maryland—2015 8-Hour Ozone NAAQS
[Primary and Secondary]
Designated area ¹ | Designation: Date ² | Designation: Type | Classification: Date | Classification: Type
Allegany County |  | Attainment/Unclassifiable
Caroline County |  | Attainment/Unclassifiable
Garrett County |  | Attainment/Unclassifiable
Somerset County |  | Attainment/Unclassifiable
Wicomico County |  | Attainment/Unclassifiable
Worcester County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

20. Section 81.322 is amended by adding a table titled “Massachusetts—2015 8-Hour Ozone NAAQS (Primary and Secondary)” following the table titled “Massachusetts—2008 8-Hour Ozone NAAQS (Primary and secondary)” to read as follows:

§ 81.322 Massachusetts.

* * * * *

Massachusetts—2015 8-Hour Ozone NAAQS
[Primary and Secondary]
Designated area ¹ | Designation: Date ² | Designation: Type | Classification: Date | Classification: Type
Barnstable County |  | Attainment/Unclassifiable
Bristol County |  | Attainment/Unclassifiable
Dukes County |  | Attainment/Unclassifiable
Essex County |  | Attainment/Unclassifiable
Franklin County |  | Attainment/Unclassifiable
Hampshire County |  | Attainment/Unclassifiable
Middlesex County |  | Attainment/Unclassifiable
Nantucket County |  | Attainment/Unclassifiable
Norfolk County |  | Attainment/Unclassifiable
Plymouth County |  | Attainment/Unclassifiable
Suffolk County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

21. Section 81.323 is amended by adding a table titled “Michigan—2015 8-Hour Ozone NAAQS (Primary and Secondary)” following the table titled “Michigan—2008 8-Hour Ozone NAAQS (Primary and secondary)” to read as follows:

§ 81.323 Michigan.

* * * * *

Michigan—2015 8-Hour Ozone NAAQS
[Primary and Secondary]
Designated area ¹ | Designation: Date ² | Designation: Type | Classification: Date | Classification: Type
Alcona County |  | Attainment/Unclassifiable
Alger County |  | Attainment/Unclassifiable
Alpena County |  | Attainment/Unclassifiable
Antrim County |  | Attainment/Unclassifiable
Arenac County |  | Attainment/Unclassifiable
Baraga County |  | Attainment/Unclassifiable
Bay County |  | Attainment/Unclassifiable
Benzie County |  | Attainment/Unclassifiable
Branch County |  | Attainment/Unclassifiable
Calhoun County |  | Attainment/Unclassifiable
Charlevoix County |  | Attainment/Unclassifiable
Cheboygan County |  | Attainment/Unclassifiable
Chippewa County |  | Attainment/Unclassifiable
Clare County |  | Attainment/Unclassifiable
Clinton County |  | Attainment/Unclassifiable
Crawford County |  | Attainment/Unclassifiable
Delta County |  | Attainment/Unclassifiable
Dickinson County |  | Attainment/Unclassifiable
Eaton County |  | Attainment/Unclassifiable
Emmet County |  | Attainment/Unclassifiable
Gladwin County |  | Attainment/Unclassifiable
Gogebic County |  | Attainment/Unclassifiable
Grand Traverse County |  | Attainment/Unclassifiable
Gratiot County |  | Attainment/Unclassifiable
Hillsdale County |  | Attainment/Unclassifiable
Houghton County |  | Attainment/Unclassifiable
Huron County |  | Attainment/Unclassifiable
Ingham County |  | Attainment/Unclassifiable
Iosco County |  | Attainment/Unclassifiable
Iron County |  | Attainment/Unclassifiable
Isabella County |  | Attainment/Unclassifiable
Jackson County |  | Attainment/Unclassifiable
Kalkaska County |  | Attainment/Unclassifiable
Keweenaw County |  | Attainment/Unclassifiable
Lake County |  | Attainment/Unclassifiable
Leelanau County |  | Attainment/Unclassifiable
Luce County |  | Attainment/Unclassifiable
Mackinac County |  | Attainment/Unclassifiable
Manistee County |  | Attainment/Unclassifiable
Marquette County |  | Attainment/Unclassifiable
Mason County |  | Attainment/Unclassifiable
Menominee County |  | Attainment/Unclassifiable
Midland County |  | Attainment/Unclassifiable
Missaukee County |  | Attainment/Unclassifiable
Montmorency County |  | Attainment/Unclassifiable
Ogemaw County |  | Attainment/Unclassifiable
Ontonagon County |  | Attainment/Unclassifiable
Osceola County |  | Attainment/Unclassifiable
Oscoda County |  | Attainment/Unclassifiable
Otsego County |  | Attainment/Unclassifiable
Presque Isle County |  | Attainment/Unclassifiable
Roscommon County |  | Attainment/Unclassifiable
Saginaw County |  | Attainment/Unclassifiable
St. Joseph County |  | Attainment/Unclassifiable
Schoolcraft County |  | Attainment/Unclassifiable
Shiawassee County |  | Attainment/Unclassifiable
Tuscola County |  | Attainment/Unclassifiable
Wexford County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

22. Section 81.324 is amended by adding a table titled “Minnesota—2015 8-Hour Ozone NAAQS (Primary and Secondary)” following the table titled “Minnesota—2008 8-Hour Ozone NAAQS (Primary and secondary)” to read as follows:

§ 81.324 Minnesota.

* * * * *

Minnesota—2015 8-Hour Ozone NAAQS
[Primary and Secondary]
Designated area ¹ | Designation: Date ² | Designation: Type | Classification: Date | Classification: Type
Aitkin County |  | Attainment/Unclassifiable
Anoka County |  | Attainment/Unclassifiable
Becker County |  | Attainment/Unclassifiable
Beltrami County |  | Attainment/Unclassifiable
Benton County |  | Attainment/Unclassifiable
Big Stone County |  | Attainment/Unclassifiable
Blue Earth County |  | Attainment/Unclassifiable
Brown County |  | Attainment/Unclassifiable
Carlton County |  | Attainment/Unclassifiable
Carver County |  | Attainment/Unclassifiable
Cass County |  | Attainment/Unclassifiable
Chippewa County |  | Attainment/Unclassifiable
Chisago County |  | Attainment/Unclassifiable
Clay County |  | Attainment/Unclassifiable
Clearwater County |  | Attainment/Unclassifiable
Cook County |  | Attainment/Unclassifiable
Cottonwood County |  | Attainment/Unclassifiable
Crow Wing County |  | Attainment/Unclassifiable
Dakota County |  | Attainment/Unclassifiable
Dodge County |  | Attainment/Unclassifiable
Douglas County |  | Attainment/Unclassifiable
Faribault County |  | Attainment/Unclassifiable
Fillmore County |  | Attainment/Unclassifiable
Freeborn County |  | Attainment/Unclassifiable
Goodhue County |  | Attainment/Unclassifiable
Grant County |  | Attainment/Unclassifiable
Hennepin County |  | Attainment/Unclassifiable
Houston County |  | Attainment/Unclassifiable
Hubbard County |  | Attainment/Unclassifiable
Isanti County |  | Attainment/Unclassifiable
Itasca County |  | Attainment/Unclassifiable
Jackson County |  | Attainment/Unclassifiable
Kanabec County |  | Attainment/Unclassifiable
Kandiyohi County |  | Attainment/Unclassifiable
Kittson County |  | Attainment/Unclassifiable
Koochiching County |  | Attainment/Unclassifiable
Lac qui Parle County |  | Attainment/Unclassifiable
Lake County |  | Attainment/Unclassifiable
Lake of the Woods County |  | Attainment/Unclassifiable
Le Sueur County |  | Attainment/Unclassifiable
Lincoln County |  | Attainment/Unclassifiable
Lyon County |  | Attainment/Unclassifiable
McLeod County |  | Attainment/Unclassifiable
Mahnomen County |  | Attainment/Unclassifiable
Marshall County |  | Attainment/Unclassifiable
Martin County |  | Attainment/Unclassifiable
Meeker County |  | Attainment/Unclassifiable
Mille Lacs County |  | Attainment/Unclassifiable
Morrison County |  | Attainment/Unclassifiable
Mower County |  | Attainment/Unclassifiable
Murray County |  | Attainment/Unclassifiable
Nicollet County |  | Attainment/Unclassifiable
Nobles County |  | Attainment/Unclassifiable
Norman County |  | Attainment/Unclassifiable
Olmsted County |  | Attainment/Unclassifiable
Otter Tail County |  | Attainment/Unclassifiable
Pennington County |  | Attainment/Unclassifiable
Pine County |  | Attainment/Unclassifiable
Pipestone County |  | Attainment/Unclassifiable
Polk County |  | Attainment/Unclassifiable
Pope County |  | Attainment/Unclassifiable
Ramsey County |  | Attainment/Unclassifiable
Red Lake County |  | Attainment/Unclassifiable
Redwood County |  | Attainment/Unclassifiable
Renville County |  | Attainment/Unclassifiable
Rice County |  | Attainment/Unclassifiable
Rock County |  | Attainment/Unclassifiable
Roseau County |  | Attainment/Unclassifiable
St. Louis County |  | Attainment/Unclassifiable
Scott County |  | Attainment/Unclassifiable
Sherburne County |  | Attainment/Unclassifiable
Sibley County |  | Attainment/Unclassifiable
Stearns County |  | Attainment/Unclassifiable
Steele County |  | Attainment/Unclassifiable
Stevens County |  | Attainment/Unclassifiable
Swift County |  | Attainment/Unclassifiable
Todd County |  | Attainment/Unclassifiable
Traverse County |  | Attainment/Unclassifiable
Wabasha County |  | Attainment/Unclassifiable
Wadena County |  | Attainment/Unclassifiable
Waseca County |  | Attainment/Unclassifiable
Washington County |  | Attainment/Unclassifiable
Watonwan County |  | Attainment/Unclassifiable
Wilkin County |  | Attainment/Unclassifiable
Winona County |  | Attainment/Unclassifiable
Wright County |  | Attainment/Unclassifiable
Yellow Medicine County |  | Attainment/Unclassifiable
Fond du Lac Band of Lake Superior Chippewa Indian Tribe ³ |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.
³ Includes Indian country of the tribe listed in this table located in the identified area. Information pertaining to areas of Indian country in this table is intended for Clean Air Act planning purposes only and is not an EPA determination of Indian country status or any Indian country boundary. EPA lacks the authority to establish Indian country land status, and is making no determination of Indian country boundaries, in this table.

* * * * *

23. Section 81.325 is amended by adding a table titled “Mississippi—2015 8-Hour Ozone NAAQS (Primary and Secondary)” following the table titled “Mississippi—2008 8-Hour Ozone NAAQS (Primary and secondary)” to read as follows:

§ 81.325 Mississippi.

* * * * *

Mississippi—2015 8-Hour Ozone NAAQS
[Primary and Secondary]
Designated area ¹ | Designation: Date ² | Designation: Type | Classification: Date | Classification: Type
Adams County |  | Attainment/Unclassifiable
Alcorn County |  | Attainment/Unclassifiable
Amite County |  | Attainment/Unclassifiable
Attala County |  | Attainment/Unclassifiable
Benton County |  | Attainment/Unclassifiable
Bolivar County |  | Attainment/Unclassifiable
Calhoun County |  | Attainment/Unclassifiable
Carroll County |  | Attainment/Unclassifiable
Chickasaw County |  | Attainment/Unclassifiable
Choctaw County |  | Attainment/Unclassifiable
Claiborne County |  | Attainment/Unclassifiable
Clarke County |  | Attainment/Unclassifiable
Clay County |  | Attainment/Unclassifiable
Coahoma County |  | Attainment/Unclassifiable
Copiah County |  | Attainment/Unclassifiable
Covington County |  | Attainment/Unclassifiable
DeSoto County |  | Attainment/Unclassifiable
Forrest County |  | Attainment/Unclassifiable
Franklin County |  | Attainment/Unclassifiable
George County |  | Attainment/Unclassifiable
Greene County |  | Attainment/Unclassifiable
Grenada County |  | Attainment/Unclassifiable
Hancock County |  | Attainment/Unclassifiable
Harrison County |  | Attainment/Unclassifiable
Hinds County |  | Attainment/Unclassifiable
Holmes County |  | Attainment/Unclassifiable
Humphreys County |  | Attainment/Unclassifiable
Issaquena County |  | Attainment/Unclassifiable
Itawamba County |  | Attainment/Unclassifiable
Jackson County |  | Attainment/Unclassifiable
Jasper County |  | Attainment/Unclassifiable
Jefferson County |  | Attainment/Unclassifiable
Jefferson Davis County |  | Attainment/Unclassifiable
Jones County |  | Attainment/Unclassifiable
Kemper County |  | Attainment/Unclassifiable
Lafayette County |  | Attainment/Unclassifiable
Lamar County |  | Attainment/Unclassifiable
Lauderdale County |  | Attainment/Unclassifiable
Lawrence County |  | Attainment/Unclassifiable
Leake County |  | Attainment/Unclassifiable
Lee County |  | Attainment/Unclassifiable
Leflore County |  | Attainment/Unclassifiable
Lincoln County |  | Attainment/Unclassifiable
Lowndes County |  | Attainment/Unclassifiable
Madison County |  | Attainment/Unclassifiable
Marion County |  | Attainment/Unclassifiable
Marshall County |  | Attainment/Unclassifiable
Monroe County |  | Attainment/Unclassifiable
Montgomery County |  | Attainment/Unclassifiable
Neshoba County |  | Attainment/Unclassifiable
Newton County |  | Attainment/Unclassifiable
Noxubee County |  | Attainment/Unclassifiable
Oktibbeha County |  | Attainment/Unclassifiable
Panola County |  | Attainment/Unclassifiable
Pearl River County |  | Attainment/Unclassifiable
Perry County |  | Attainment/Unclassifiable
Pike County |  | Attainment/Unclassifiable
Pontotoc County |  | Attainment/Unclassifiable
Prentiss County |  | Attainment/Unclassifiable
Quitman County |  | Attainment/Unclassifiable
Rankin County |  | Attainment/Unclassifiable
Scott County |  | Attainment/Unclassifiable
Sharkey County |  | Attainment/Unclassifiable
Simpson County |  | Attainment/Unclassifiable
Smith County |  | Attainment/Unclassifiable
Stone County |  | Attainment/Unclassifiable
Sunflower County |  | Attainment/Unclassifiable
Tallahatchie County |  | Attainment/Unclassifiable
Tate County |  | Attainment/Unclassifiable
Tippah County |  | Attainment/Unclassifiable
Tishomingo County |  | Attainment/Unclassifiable
Tunica County |  | Attainment/Unclassifiable
Union County |  | Attainment/Unclassifiable
Walthall County |  | Attainment/Unclassifiable
Warren County |  | Attainment/Unclassifiable
Washington County |  | Attainment/Unclassifiable
Wayne County |  | Attainment/Unclassifiable
Webster County |  | Attainment/Unclassifiable
Wilkinson County |  | Attainment/Unclassifiable
Winston County |  | Attainment/Unclassifiable
Yalobusha County |  | Attainment/Unclassifiable
Yazoo County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

24. Section 81.326 is amended by adding a table titled “Missouri—2015 8-Hour Ozone NAAQS (Primary and Secondary)” following the table titled “Missouri—2008 8-Hour Ozone NAAQS (Primary and secondary)” to read as follows:

§ 81.326 Missouri.

* * * * *

Missouri—2015 8-Hour Ozone NAAQS
[Primary and Secondary]
Designated area ¹ | Designation: Date ² | Designation: Type | Classification: Date | Classification: Type
Adair County |  | Attainment/Unclassifiable
Andrew County |  | Attainment/Unclassifiable
Atchison County |  | Attainment/Unclassifiable
Audrain County |  | Attainment/Unclassifiable
Barry County |  | Attainment/Unclassifiable
Barton County |  | Attainment/Unclassifiable
Bates County |  | Attainment/Unclassifiable
Benton County |  | Attainment/Unclassifiable
Bollinger County |  | Attainment/Unclassifiable
Boone County |  | Attainment/Unclassifiable
Buchanan County |  | Attainment/Unclassifiable
Butler County |  | Attainment/Unclassifiable
Caldwell County |  | Attainment/Unclassifiable
Callaway County |  | Attainment/Unclassifiable
Camden County |  | Attainment/Unclassifiable
Cape Girardeau County |  | Attainment/Unclassifiable
Carroll County |  | Attainment/Unclassifiable
Carter County |  | Attainment/Unclassifiable
Cass County |  | Attainment/Unclassifiable
Cedar County |  | Attainment/Unclassifiable
Chariton County |  | Attainment/Unclassifiable
Christian County |  | Attainment/Unclassifiable
Clark County |  | Attainment/Unclassifiable
Clay County |  | Attainment/Unclassifiable
Clinton County |  | Attainment/Unclassifiable
Cole County |  | Attainment/Unclassifiable
Cooper County |  | Attainment/Unclassifiable
Crawford County |  | Attainment/Unclassifiable
Dade County |  | Attainment/Unclassifiable
Dallas County |  | Attainment/Unclassifiable
Daviess County |  | Attainment/Unclassifiable
DeKalb County |  | Attainment/Unclassifiable
Dent County |  | Attainment/Unclassifiable
Douglas County |  | Attainment/Unclassifiable
Dunklin County |  | Attainment/Unclassifiable
Gasconade County |  | Attainment/Unclassifiable
Gentry County |  | Attainment/Unclassifiable
Greene County |  | Attainment/Unclassifiable
Grundy County |  | Attainment/Unclassifiable
Harrison County |  | Attainment/Unclassifiable
Henry County |  | Attainment/Unclassifiable
Hickory County |  | Attainment/Unclassifiable
Holt County |  | Attainment/Unclassifiable
Howard County |  | Attainment/Unclassifiable
Howell County |  | Attainment/Unclassifiable
Iron County |  | Attainment/Unclassifiable
Jackson County |  | Attainment/Unclassifiable
Jasper County |  | Attainment/Unclassifiable
Johnson County |  | Attainment/Unclassifiable
Knox County |  | Attainment/Unclassifiable
Laclede County |  | Attainment/Unclassifiable
Lafayette County |  | Attainment/Unclassifiable
Lawrence County |  | Attainment/Unclassifiable
Lewis County |  | Attainment/Unclassifiable
Linn County |  | Attainment/Unclassifiable
Livingston County |  | Attainment/Unclassifiable
McDonald County |  | Attainment/Unclassifiable
Macon County |  | Attainment/Unclassifiable
Madison County |  | Attainment/Unclassifiable
Maries County |  | Attainment/Unclassifiable
Marion County |  | Attainment/Unclassifiable
Mercer County |  | Attainment/Unclassifiable
Miller County |  | Attainment/Unclassifiable
Mississippi County |  | Attainment/Unclassifiable
Moniteau County |  | Attainment/Unclassifiable
Monroe County |  | Attainment/Unclassifiable
Montgomery County |  | Attainment/Unclassifiable
Morgan County |  | Attainment/Unclassifiable
New Madrid County |  | Attainment/Unclassifiable
Newton County |  | Attainment/Unclassifiable
Nodaway County |  | Attainment/Unclassifiable
Oregon County |  | Attainment/Unclassifiable
Osage County |  | Attainment/Unclassifiable
Ozark County |  | Attainment/Unclassifiable
Pemiscot County |  | Attainment/Unclassifiable
Perry County |  | Attainment/Unclassifiable
Pettis County |  | Attainment/Unclassifiable
Phelps County |  | Attainment/Unclassifiable
Pike County |  | Attainment/Unclassifiable
Platte County |  | Attainment/Unclassifiable
Polk County |  | Attainment/Unclassifiable
Pulaski County |  | Attainment/Unclassifiable
Putnam County |  | Attainment/Unclassifiable
Ralls County |  | Attainment/Unclassifiable
Randolph County |  | Attainment/Unclassifiable
Ray County |  | Attainment/Unclassifiable
Reynolds County |  | Attainment/Unclassifiable
Ripley County |  | Attainment/Unclassifiable
St. Clair County |  | Attainment/Unclassifiable
Ste. Genevieve County |  | Attainment/Unclassifiable
Saline County |  | Attainment/Unclassifiable
Schuyler County |  | Attainment/Unclassifiable
Scotland County |  | Attainment/Unclassifiable
Scott County |  | Attainment/Unclassifiable
Shannon County |  | Attainment/Unclassifiable
Shelby County |  | Attainment/Unclassifiable
Stoddard County |  | Attainment/Unclassifiable
Stone County |  | Attainment/Unclassifiable
Sullivan County |  | Attainment/Unclassifiable
Taney County |  | Attainment/Unclassifiable
Texas County |  | Attainment/Unclassifiable
Vernon County |  | Attainment/Unclassifiable
Washington County |  | Attainment/Unclassifiable
Wayne County |  | Attainment/Unclassifiable
Webster County |  | Attainment/Unclassifiable
Worth County |  | Attainment/Unclassifiable
Wright County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

25. Section 81.327 is amended by adding a table titled “Montana—2015 8-Hour Ozone NAAQS (Primary and Secondary)” following the table titled “Montana—2008 8-Hour Ozone NAAQS (Primary and secondary)” to read as follows:

§ 81.327 Montana.

* * * * *

Montana—2015 8-Hour Ozone NAAQS
[Primary and Secondary]
Designated area ¹ | Designation: Date ² | Designation: Type | Classification: Date | Classification: Type
Statewide |  | Attainment/Unclassifiable
Beaverhead County
Big Horn County
Blaine County
Broadwater County
Carbon County
Carter County
Cascade County
Chouteau County
Custer County
Daniels County
Dawson County
Deer Lodge County
Fallon County
Fergus County
Flathead County
Gallatin County
Garfield County
Glacier County
Golden Valley County
Granite County
Hill County
Jefferson County
Judith Basin County
Lake County
Lewis and Clark County
Liberty County
Lincoln County
McCone County
Madison County
Meagher County
Mineral County
Missoula County
Musselshell County
Park County
Petroleum County
Phillips County
Pondera County
Powder River County
Powell County
Prairie County
Ravalli County
Richland County
Roosevelt County
Rosebud County
Sanders County
Sheridan County
Silver Bow County
Stillwater County
Sweet Grass County
Teton County
Toole County
Treasure County
Valley County
Wheatland County
Wibaux County
Yellowstone County
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

26. Section 81.328 is amended by adding a table titled “Nebraska—2015 8-Hour Ozone NAAQS (Primary and Secondary)” following the table titled “Nebraska—2008 8-Hour Ozone NAAQS (Primary and secondary)” to read as follows:

§ 81.328 Nebraska.

* * * * *

Nebraska—2015 8-Hour Ozone NAAQS
[Primary and Secondary]
Designated area ¹ | Designation: Date ² | Designation: Type | Classification: Date | Classification: Type
Statewide |  | Attainment/Unclassifiable
Adams County
Antelope County
Arthur County
Banner County
Blaine County
Boone County
Box Butte County
Boyd County
Brown County
Buffalo County
Burt County
Butler County
Cass County
Cedar County
Chase County
Cherry County
Cheyenne County
Clay County
Colfax County
Cuming County
Custer County
Dakota County
Dawes County
Dawson County
Deuel County
Dixon County
Dodge County
Douglas County
Dundy County
Fillmore County
Franklin County
Frontier County
Furnas County
Gage County
Garden County
Garfield County
Gosper County
Grant County
Greeley County
Hall County
Hamilton County
Harlan County
Hayes County
Hitchcock County
Holt County
Hooker County
Howard County
Jefferson County
Johnson County
Kearney County
Keith County
Keya Paha County
Kimball County
Knox County
Lancaster County
Lincoln County
Logan County
Loup County
McPherson County
Madison County
Merrick County
Morrill County
Nance County
Nemaha County
Nuckolls County
Otoe County
Pawnee County
Perkins County
Phelps County
Pierce County
Platte County
Polk County
Red Willow County
Richardson County
Rock County
Saline County
Sarpy County
Saunders County
Scotts Bluff County
Seward County
Sheridan County
Sherman County
Sioux County
Stanton County
Thayer County
Thomas County
Thurston County
Valley County
Washington County
Wayne County
Webster County
Wheeler County
York County
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

27. Section 81.329 is amended by adding a table titled “Nevada—2015 8-Hour Ozone NAAQS (Primary and Secondary)” following the table titled “Nevada—2008 8-Hour Ozone NAAQS (Primary and secondary)” to read as follows:

§ 81.329 Nevada.

* * * * *

Nevada—2015 8-Hour Ozone NAAQS
[Primary and Secondary]
Designated area ¹ | Designation: Date ² | Designation: Type | Classification: Date | Classification: Type
Churchill County |  | Attainment/Unclassifiable
Elko County |  | Attainment/Unclassifiable
Esmeralda County |  | Attainment/Unclassifiable
Eureka County |  | Attainment/Unclassifiable
Humboldt County |  | Attainment/Unclassifiable
Lander County |  | Attainment/Unclassifiable
Lyon County |  | Attainment/Unclassifiable
Mineral County |  | Attainment/Unclassifiable
Pershing County |  | Attainment/Unclassifiable
Storey County |  | Attainment/Unclassifiable
White Pine County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

28. Section 81.330 is amended by adding a table titled “New Hampshire—2015 8-Hour Ozone NAAQS (Primary and Secondary)” following the table titled “New Hampshire—2008 8-Hour Ozone NAAQS (Primary and secondary)” to read as follows:

§ 81.330 New Hampshire.

* * * * *

New Hampshire—2015 8-Hour Ozone NAAQS
[Primary and Secondary]
Designated area ¹ | Designation: Date ² | Designation: Type | Classification: Date | Classification: Type
Statewide |  | Attainment/Unclassifiable
Belknap County
Carroll County
Cheshire County
Coos County
Grafton County
Hillsborough County
Merrimack County
Rockingham County
Strafford County
Sullivan County
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

29. Section 81.332 is amended by adding a table titled “New Mexico—2015 8-Hour Ozone NAAQS (Primary and Secondary)” following the table titled “New Mexico—2008 8-Hour Ozone NAAQS (Primary and secondary)” to read as follows:

§ 81.332 New Mexico.

* * * * *

New Mexico—2015 8-Hour Ozone NAAQS
[Primary and Secondary]
Designated area ¹ | Designation: Date ² | Designation: Type | Classification: Date | Classification: Type
Bernalillo County |  | Attainment/Unclassifiable
Catron County |  | Attainment/Unclassifiable
Chaves County |  | Attainment/Unclassifiable
Cibola County |  | Attainment/Unclassifiable
Colfax County |  | Attainment/Unclassifiable
Curry County |  | Attainment/Unclassifiable
De Baca County |  | Attainment/Unclassifiable
Eddy County |  | Attainment/Unclassifiable
Grant County |  | Attainment/Unclassifiable
Guadalupe County |  | Attainment/Unclassifiable
Harding County |  | Attainment/Unclassifiable
Hidalgo County |  | Attainment/Unclassifiable
Lea County |  | Attainment/Unclassifiable
Lincoln County |  | Attainment/Unclassifiable
Los Alamos County |  | Attainment/Unclassifiable
McKinley County |  | Attainment/Unclassifiable
Mora County |  | Attainment/Unclassifiable
Quay County |  | Attainment/Unclassifiable
Rio Arriba County |  | Attainment/Unclassifiable
Roosevelt County |  | Attainment/Unclassifiable
Sandoval County |  | Attainment/Unclassifiable
San Juan County |  | Attainment/Unclassifiable
San Miguel County |  | Attainment/Unclassifiable
Santa Fe County |  | Attainment/Unclassifiable
Socorro County |  | Attainment/Unclassifiable
Taos County |  | Attainment/Unclassifiable
Torrance County |  | Attainment/Unclassifiable
Union County |  | Attainment/Unclassifiable
Valencia County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

30. Section 81.333 is amended by adding a table titled “New York—2015 8-Hour Ozone NAAQS (Primary and Secondary)” following the table titled “New York—2008 8-Hour Ozone NAAQS (Primary and secondary)” to read as follows:

§ 81.333 New York.

* * * * *

New York—2015 8-Hour Ozone NAAQS
[Primary and Secondary]
Designated area ¹ | Designation: Date ² | Designation: Type | Classification: Date | Classification: Type
Albany County |  | Attainment/Unclassifiable
Allegany County |  | Attainment/Unclassifiable
Broome County |  | Attainment/Unclassifiable
Cattaraugus County |  | Attainment/Unclassifiable
Cayuga County |  | Attainment/Unclassifiable
Chautauqua County |  | Attainment/Unclassifiable
Chemung County |  | Attainment/Unclassifiable
Chenango County |  | Attainment/Unclassifiable
Clinton County |  | Attainment/Unclassifiable
Columbia County |  | Attainment/Unclassifiable
Cortland County |  | Attainment/Unclassifiable
Delaware County |  | Attainment/Unclassifiable
Erie County |  | Attainment/Unclassifiable
Essex County |  | Attainment/Unclassifiable
Franklin County |  | Attainment/Unclassifiable
Fulton County |  | Attainment/Unclassifiable
Genesee County |  | Attainment/Unclassifiable
Greene County |  | Attainment/Unclassifiable
Hamilton County |  | Attainment/Unclassifiable
Herkimer County |  | Attainment/Unclassifiable
Jefferson County |  | Attainment/Unclassifiable
Lewis County |  | Attainment/Unclassifiable
Livingston County |  | Attainment/Unclassifiable
Madison County |  | Attainment/Unclassifiable
Monroe County |  | Attainment/Unclassifiable
Montgomery County |  | Attainment/Unclassifiable
Niagara County |  | Attainment/Unclassifiable
Oneida County |  | Attainment/Unclassifiable
Onondaga County |  | Attainment/Unclassifiable
Ontario County |  | Attainment/Unclassifiable
Orleans County |  | Attainment/Unclassifiable
Oswego County |  | Attainment/Unclassifiable
Otsego County |  | Attainment/Unclassifiable
Rensselaer County |  | Attainment/Unclassifiable
St. Lawrence County |  | Attainment/Unclassifiable
Saratoga County |  | Attainment/Unclassifiable
Schenectady County |  | Attainment/Unclassifiable
Schoharie County |  | Attainment/Unclassifiable
Schuyler County |  | Attainment/Unclassifiable
Seneca County |  | Attainment/Unclassifiable
Steuben County |  | Attainment/Unclassifiable
Sullivan County |  | Attainment/Unclassifiable
Tioga County |  | Attainment/Unclassifiable
Tompkins County |  | Attainment/Unclassifiable
Warren County |  | Attainment/Unclassifiable
Washington County |  | Attainment/Unclassifiable
Wayne County |  | Attainment/Unclassifiable
Wyoming County |  | Attainment/Unclassifiable
Yates County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

31. Section 81.334 is amended by adding a table titled “North Carolina—2015 8-Hour Ozone NAAQS (Primary and Secondary)” following the table titled “North Carolina—2008 8-Hour Ozone NAAQS (Primary and secondary)” to read as follows:

§ 81.334 North Carolina.

* * * * *

North Carolina—2015 8-Hour Ozone NAAQS
[Primary and Secondary]
Designated area ¹ | Designation: Date ² | Designation: Type | Classification: Date | Classification: Type
Alamance County |  | Attainment/Unclassifiable
Alexander County |  | Attainment/Unclassifiable
Alleghany County |  | Attainment/Unclassifiable
Anson County |  | Attainment/Unclassifiable
Ashe County |  | Attainment/Unclassifiable
Avery County |  | Attainment/Unclassifiable
Beaufort County |  | Attainment/Unclassifiable
Bertie County |  | Attainment/Unclassifiable
Bladen County |  | Attainment/Unclassifiable
Brunswick County |  | Attainment/Unclassifiable
Buncombe County |  | Attainment/Unclassifiable
Burke County |  | Attainment/Unclassifiable
Cabarrus County |  | Attainment/Unclassifiable
Caldwell County |  | Attainment/Unclassifiable
Camden County |  | Attainment/Unclassifiable
Carteret County |  | Attainment/Unclassifiable
Caswell County |  | Attainment/Unclassifiable
Catawba County |  | Attainment/Unclassifiable
Chatham County |  | Attainment/Unclassifiable
Cherokee County |  | Attainment/Unclassifiable
Chowan County |  | Attainment/Unclassifiable
Clay County |  | Attainment/Unclassifiable
Cleveland County |  | Attainment/Unclassifiable
Columbus County |  | Attainment/Unclassifiable
Craven County |  | Attainment/Unclassifiable
Cumberland County |  | Attainment/Unclassifiable
Currituck County |  | Attainment/Unclassifiable
Dare County |  | Attainment/Unclassifiable
Davidson County |  | Attainment/Unclassifiable
Davie County |  | Attainment/Unclassifiable
Duplin County |  | Attainment/Unclassifiable
Durham County |  | Attainment/Unclassifiable
Edgecombe County |  | Attainment/Unclassifiable
Forsyth County |  | Attainment/Unclassifiable
Franklin County |  | Attainment/Unclassifiable
Gaston County |  | Attainment/Unclassifiable
Gates County |  | Attainment/Unclassifiable
Graham County |  | Attainment/Unclassifiable
Granville County |  | Attainment/Unclassifiable
Greene County |  | Attainment/Unclassifiable
Guilford County |  | Attainment/Unclassifiable
Halifax County |  | Attainment/Unclassifiable
Harnett County |  | Attainment/Unclassifiable
Haywood County |  | Attainment/Unclassifiable
Henderson County |  | Attainment/Unclassifiable
Hertford County |  | Attainment/Unclassifiable
Hoke County |  | Attainment/Unclassifiable
Hyde County |  | Attainment/Unclassifiable
Iredell County |  | Attainment/Unclassifiable
Jackson County |  | Attainment/Unclassifiable
Johnston County |  | Attainment/Unclassifiable
Jones County |  | Attainment/Unclassifiable
Lee County |  | Attainment/Unclassifiable
Lenoir County |  | Attainment/Unclassifiable
Lincoln County |  | Attainment/Unclassifiable
McDowell County |  | Attainment/Unclassifiable
Macon County |  | Attainment/Unclassifiable
Madison County |  | Attainment/Unclassifiable
Martin County |  | Attainment/Unclassifiable
Mecklenburg County |  | Attainment/Unclassifiable
Mitchell County |  | Attainment/Unclassifiable
Montgomery County |  | Attainment/Unclassifiable
Moore County |  | Attainment/Unclassifiable
Nash County |  | Attainment/Unclassifiable
New Hanover County |  | Attainment/Unclassifiable
Northampton County |  | Attainment/Unclassifiable
Onslow County |  | Attainment/Unclassifiable
Orange County |  | Attainment/Unclassifiable
Pamlico County |  | Attainment/Unclassifiable
Pasquotank County |  | Attainment/Unclassifiable
Pender County |  | Attainment/Unclassifiable
Perquimans County |  | Attainment/Unclassifiable
Person County |  | Attainment/Unclassifiable
Pitt County |  | Attainment/Unclassifiable
Polk County |  | Attainment/Unclassifiable
Randolph County |  | Attainment/Unclassifiable
Richmond County |  | Attainment/Unclassifiable
Robeson County |  | Attainment/Unclassifiable
Rockingham County |  | Attainment/Unclassifiable
Rowan County |  | Attainment/Unclassifiable
Rutherford County |  | Attainment/Unclassifiable
Sampson County |  | Attainment/Unclassifiable
Scotland County |  | Attainment/Unclassifiable
Stanly County |  | Attainment/Unclassifiable
Stokes County |  | Attainment/Unclassifiable
Surry County |  | Attainment/Unclassifiable
Swain County |  | Attainment/Unclassifiable
Transylvania County |  | Attainment/Unclassifiable
Tyrrell County |  | Attainment/Unclassifiable
Union County |  | Attainment/Unclassifiable
Vance County |  | Attainment/Unclassifiable
Wake County |  | Attainment/Unclassifiable
Warren County |  | Attainment/Unclassifiable
Washington County |  | Attainment/Unclassifiable
Watauga County |  | Attainment/Unclassifiable
Wayne County |  | Attainment/Unclassifiable
Wilkes County |  | Attainment/Unclassifiable
Wilson County |  | Attainment/Unclassifiable
Yadkin County |  | Attainment/Unclassifiable
Yancey County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

32. Section 81.335 is amended by adding a table titled “North Dakota—2015 8-Hour Ozone NAAQS (Primary and Secondary)” following the table titled “North Dakota—2008 8-Hour Ozone NAAQS (Primary and secondary)” to read as follows:

§ 81.335 North Dakota.

* * * * *

North Dakota—2015 8-Hour Ozone NAAQS
[Primary and Secondary]
Designated area ¹ | Designation: Date ² | Designation: Type | Classification: Date | Classification: Type
Statewide |  | Attainment/Unclassifiable
Adams County
Barnes County
Benson County
Billings County
Bottineau County
Bowman County
Burke County
Burleigh County
Cass County
Cavalier County
Dickey County
Divide County
Dunn County
Eddy County
Emmons County
Foster County
Golden Valley County
Grand Forks County
Grant County
Griggs County
Hettinger County
Kidder County
LaMoure County
Logan County
McHenry County
McIntosh County
McKenzie County
McLean County
Mercer County
Morton County
Mountrail County
Nelson County
Oliver County
Pembina County
Pierce County
Ramsey County
Ransom County
Renville County
Richland County
Rolette County
Sargent County
Sheridan County
Sioux County
Slope County
Stark County
Steele County
Stutsman County
Towner County
Traill County
Walsh County
Ward County
Wells County
Williams County
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

33. Section 81.336 is amended by adding a table titled “Ohio—2015 8-Hour Ozone NAAQS (Primary and Secondary)” following the table titled “Ohio—2008 8-Hour Ozone NAAQS (Primary and secondary)” to read as follows:

§ 81.336 Ohio.

* * * * *

Ohio—2015 8-Hour Ozone NAAQS
[Primary and Secondary]
Designated area ¹ | Designation: Date ² | Designation: Type | Classification: Date | Classification: Type
Adams County |  | Attainment/Unclassifiable
Allen County |  | Attainment/Unclassifiable
Ashland County |  | Attainment/Unclassifiable
Athens County |  | Attainment/Unclassifiable
Auglaize County |  | Attainment/Unclassifiable
Belmont County |  | Attainment/Unclassifiable
Champaign County |  | Attainment/Unclassifiable
Clark County |  | Attainment/Unclassifiable
Columbiana County |  | Attainment/Unclassifiable
Coshocton County |  | Attainment/Unclassifiable
Crawford County |  | Attainment/Unclassifiable
Darke County |  | Attainment/Unclassifiable
Defiance County |  | Attainment/Unclassifiable
Fulton County |  | Attainment/Unclassifiable
Gallia County |  | Attainment/Unclassifiable
Hancock County |  | Attainment/Unclassifiable
Hardin County |  | Attainment/Unclassifiable
Harrison County |  | Attainment/Unclassifiable
Henry County |  | Attainment/Unclassifiable
Highland County |  | Attainment/Unclassifiable
Holmes County |  | Attainment/Unclassifiable
Jackson County |  | Attainment/Unclassifiable
Jefferson County |  | Attainment/Unclassifiable
Lawrence County |  | Attainment/Unclassifiable
Lucas County |  | Attainment/Unclassifiable
Mahoning County |  | Attainment/Unclassifiable
Meigs County |  | Attainment/Unclassifiable
Mercer County |  | Attainment/Unclassifiable
Miami County |  | Attainment/Unclassifiable
Monroe County |  | Attainment/Unclassifiable
Morgan County |  | Attainment/Unclassifiable
Noble County |  | Attainment/Unclassifiable
Ottawa County |  | Attainment/Unclassifiable
Paulding County |  | Attainment/Unclassifiable
Pike County |  | Attainment/Unclassifiable
Putnam County |  | Attainment/Unclassifiable
Richland County |  | Attainment/Unclassifiable
Sandusky County |  | Attainment/Unclassifiable
Scioto County |  | Attainment/Unclassifiable
Seneca County |  | Attainment/Unclassifiable
Shelby County |  | Attainment/Unclassifiable
Van Wert County |  | Attainment/Unclassifiable
Vinton County |  | Attainment/Unclassifiable
Washington County |  | Attainment/Unclassifiable
Wayne County |  | Attainment/Unclassifiable
Williams County |  | Attainment/Unclassifiable
Wood County |  | Attainment/Unclassifiable
Wyandot County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

34. Section 81.337 is amended by adding a table titled “Oklahoma—2015 8-Hour Ozone NAAQS (Primary and Secondary)” following the table titled “Oklahoma—2008 8-Hour Ozone NAAQS (Primary and secondary)” to read as follows:

§ 81.337 Oklahoma.

* * * * *

Oklahoma—2015 8-Hour Ozone NAAQS
[Primary and Secondary]
Designated area ¹ | Designation: Date ² | Designation: Type | Classification: Date | Classification: Type
Adair County |  | Attainment/Unclassifiable
Alfalfa County |  | Attainment/Unclassifiable
Atoka County |  | Attainment/Unclassifiable
Beaver County |  | Attainment/Unclassifiable
Beckham County |  | Attainment/Unclassifiable
Blaine County |  | Attainment/Unclassifiable
Caddo County |  | Attainment/Unclassifiable
Canadian County |  | Attainment/Unclassifiable
Carter County |  | Attainment/Unclassifiable
Cherokee County |  | Attainment/Unclassifiable
Choctaw County |  | Attainment/Unclassifiable
Cimarron County |  | Attainment/Unclassifiable
Cleveland County |  | Attainment/Unclassifiable
Coal County |  | Attainment/Unclassifiable
Comanche County |  | Attainment/Unclassifiable
Cotton County |  | Attainment/Unclassifiable
Craig County |  | Attainment/Unclassifiable
Creek County |  | Attainment/Unclassifiable
Custer County |  | Attainment/Unclassifiable
Delaware County |  | Attainment/Unclassifiable
Dewey County |  | Attainment/Unclassifiable
Ellis County |  | Attainment/Unclassifiable
Garfield County |  | Attainment/Unclassifiable
Garvin County |  | Attainment/Unclassifiable
Grady County |  | Attainment/Unclassifiable
Grant County |  | Attainment/Unclassifiable
Greer County |  | Attainment/Unclassifiable
Harmon County |  | Attainment/Unclassifiable
Harper County |  | Attainment/Unclassifiable
Haskell County |  | Attainment/Unclassifiable
Hughes County |  | Attainment/Unclassifiable
Jackson County |  | Attainment/Unclassifiable
Jefferson County |  | Attainment/Unclassifiable
Johnston County |  | Attainment/Unclassifiable
Kay County |  | Attainment/Unclassifiable
Kingfisher County |  | Attainment/Unclassifiable
Kiowa County |  | Attainment/Unclassifiable
Latimer County |  | Attainment/Unclassifiable
Le Flore County |  | Attainment/Unclassifiable
Lincoln County |  | Attainment/Unclassifiable
Logan County |  | Attainment/Unclassifiable
Love County |  | Attainment/Unclassifiable
McClain County |  | Attainment/Unclassifiable
McCurtain County |  | Attainment/Unclassifiable
McIntosh County |  | Attainment/Unclassifiable
Major County |  | Attainment/Unclassifiable
Marshall County |  | Attainment/Unclassifiable
Mayes County |  | Attainment/Unclassifiable
Murray County |  | Attainment/Unclassifiable
Muskogee County |  | Attainment/Unclassifiable
Noble County |  | Attainment/Unclassifiable
Nowata County |  | Attainment/Unclassifiable
Okfuskee County |  | Attainment/Unclassifiable
Oklahoma County |  | Attainment/Unclassifiable
Okmulgee County |  | Attainment/Unclassifiable
Osage County |  | Attainment/Unclassifiable
Ottawa County |  | Attainment/Unclassifiable
Pawnee County |  | Attainment/Unclassifiable
Payne County |  | Attainment/Unclassifiable
Pittsburg County |  | Attainment/Unclassifiable
Pontotoc County |  | Attainment/Unclassifiable
Pottawatomie County |  | Attainment/Unclassifiable
Pushmataha County |  | Attainment/Unclassifiable
Roger Mills County |  | Attainment/Unclassifiable
Rogers County |  | Attainment/Unclassifiable
Seminole County |  | Attainment/Unclassifiable
Sequoyah County |  | Attainment/Unclassifiable
Stephens County |  | Attainment/Unclassifiable
Texas County |  | Attainment/Unclassifiable
Tillman County |  | Attainment/Unclassifiable
Tulsa County |  | Attainment/Unclassifiable
Wagoner County |  | Attainment/Unclassifiable
Washington County |  | Attainment/Unclassifiable
Washita County |  | Attainment/Unclassifiable
Woods County |  | Attainment/Unclassifiable
Woodward County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

35. Section 81.338 is amended by adding a table titled “Oregon—2015 8-Hour Ozone NAAQS (Primary and Secondary)” following the table titled “Oregon—2008 8-Hour Ozone NAAQS (Primary and secondary)” to read as follows:

§ 81.338 Oregon.

* * * * *

Oregon—2015 8-Hour Ozone NAAQS
[Primary and Secondary]
Designated area ¹ | Designation: Date ² | Designation: Type | Classification: Date | Classification: Type
Baker County |  | Attainment/Unclassifiable
Clatsop County |  | Attainment/Unclassifiable
Coos County |  | Attainment/Unclassifiable
Crook County |  | Attainment/Unclassifiable
Curry County |  | Attainment/Unclassifiable
Deschutes County |  | Attainment/Unclassifiable
Douglas County |  | Attainment/Unclassifiable
Gilliam County |  | Attainment/Unclassifiable
Grant County |  | Attainment/Unclassifiable
Harney County |  | Attainment/Unclassifiable
Hood River County |  | Attainment/Unclassifiable
Jackson County |  | Attainment/Unclassifiable
Jefferson County |  | Attainment/Unclassifiable
Josephine County |  | Attainment/Unclassifiable
Klamath County |  | Attainment/Unclassifiable
Lake County |  | Attainment/Unclassifiable
Lane County |  | Attainment/Unclassifiable
Lincoln County |  | Attainment/Unclassifiable
Malheur County |  | Attainment/Unclassifiable
Morrow County |  | Attainment/Unclassifiable
Sherman County |  | Attainment/Unclassifiable
Tillamook County |  | Attainment/Unclassifiable
Umatilla County |  | Attainment/Unclassifiable
Union County |  | Attainment/Unclassifiable
Wallowa County |  | Attainment/Unclassifiable
Wasco County |  | Attainment/Unclassifiable
Wheeler County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

36. Section 81.339 is amended by adding a table titled “Pennsylvania—2015 8-Hour Ozone NAAQS (Primary and Secondary)” following the table titled “Pennsylvania—2008 8-Hour Ozone NAAQS (Primary and secondary)” to read as follows:

§ 81.339 Pennsylvania.

* * * * *

Pennsylvania—2015 8-Hour Ozone NAAQS
[Primary and Secondary]
Designated area ¹ | Designation: Date ² | Designation: Type | Classification: Date | Classification: Type
Allegheny County |  | Attainment/Unclassifiable
Armstrong County |  | Attainment/Unclassifiable
Beaver County |  | Attainment/Unclassifiable
Bedford County |  | Attainment/Unclassifiable
Blair County |  | Attainment/Unclassifiable
Bradford County |  | Attainment/Unclassifiable
Butler County |  | Attainment/Unclassifiable
Cambria County |  | Attainment/Unclassifiable
Cameron County |  | Attainment/Unclassifiable
Centre County |  | Attainment/Unclassifiable
Clarion County |  | Attainment/Unclassifiable
Clearfield County |  | Attainment/Unclassifiable
Clinton County |  | Attainment/Unclassifiable
Columbia County |  | Attainment/Unclassifiable
Crawford County |  | Attainment/Unclassifiable
Elk County |  | Attainment/Unclassifiable
Erie County |  | Attainment/Unclassifiable
Fayette County |  | Attainment/Unclassifiable
Forest County |  | Attainment/Unclassifiable
Fulton County |  | Attainment/Unclassifiable
Greene County |  | Attainment/Unclassifiable
Huntingdon County |  | Attainment/Unclassifiable
Indiana County |  | Attainment/Unclassifiable
Jefferson County |  | Attainment/Unclassifiable
Juniata County |  | Attainment/Unclassifiable
Lackawanna County |  | Attainment/Unclassifiable
Lawrence County |  | Attainment/Unclassifiable
Luzerne County |  | Attainment/Unclassifiable
Lycoming County |  | Attainment/Unclassifiable
McKean County |  | Attainment/Unclassifiable
Mercer County |  | Attainment/Unclassifiable
Mifflin County |  | Attainment/Unclassifiable
Montour County |  | Attainment/Unclassifiable
Northumberland County |  | Attainment/Unclassifiable
Potter County |  | Attainment/Unclassifiable
Snyder County |  | Attainment/Unclassifiable
Somerset County |  | Attainment/Unclassifiable
Sullivan County |  | Attainment/Unclassifiable
Susquehanna County |  | Attainment/Unclassifiable
Tioga County |  | Attainment/Unclassifiable
Union County |  | Attainment/Unclassifiable
Venango County |  | Attainment/Unclassifiable
Warren County |  | Attainment/Unclassifiable
Washington County |  | Attainment/Unclassifiable
Wayne County |  | Attainment/Unclassifiable
Westmoreland County |  | Attainment/Unclassifiable
Wyoming County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

37. Section 81.340 is amended by adding a table titled “Rhode Island—2015 8-Hour Ozone NAAQS (Primary and Secondary)” following the table titled “Rhode Island—2008 8-Hour Ozone NAAQS (Primary and secondary)” to read as follows:

§ 81.340 Rhode Island.

* * * * *

Rhode Island—2015 8-Hour Ozone NAAQS
[Primary and Secondary]
Designated area ¹ | Designation: Date ² | Designation: Type | Classification: Date | Classification: Type
Bristol County |  | Attainment/Unclassifiable
Newport County |  | Attainment/Unclassifiable
Providence County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

38. Section 81.341 is amended by adding a table titled “South Carolina—2015 8-Hour Ozone NAAQS (Primary and Secondary)” following the table titled “South Carolina—2008 8-Hour Ozone NAAQS (Primary and secondary)” to read as follows:

§ 81.341 South Carolina.

* * * * *

South Carolina—2015 8-Hour Ozone NAAQS
[Primary and Secondary]
Designated area ¹: Designation | Designated area ¹: Date ² | Designated area ¹: Type | Classification: Date ² | Classification: Type
Abbeville County |  | Attainment/Unclassifiable
Aiken County |  | Attainment/Unclassifiable
Allendale County |  | Attainment/Unclassifiable
Anderson County |  | Attainment/Unclassifiable
Bamberg County |  | Attainment/Unclassifiable
Barnwell County |  | Attainment/Unclassifiable
Beaufort County |  | Attainment/Unclassifiable
Berkeley County |  | Attainment/Unclassifiable
Calhoun County |  | Attainment/Unclassifiable
Charleston County |  | Attainment/Unclassifiable
Cherokee County |  | Attainment/Unclassifiable
Chester County |  | Attainment/Unclassifiable
Chesterfield County |  | Attainment/Unclassifiable
Clarendon County |  | Attainment/Unclassifiable
Colleton County |  | Attainment/Unclassifiable
Darlington County |  | Attainment/Unclassifiable
Dillon County |  | Attainment/Unclassifiable
Dorchester County |  | Attainment/Unclassifiable
Edgefield County |  | Attainment/Unclassifiable
Fairfield County |  | Attainment/Unclassifiable
Florence County |  | Attainment/Unclassifiable
Georgetown County |  | Attainment/Unclassifiable
Greenville County |  | Attainment/Unclassifiable
Greenwood County |  | Attainment/Unclassifiable
Hampton County |  | Attainment/Unclassifiable
Horry County |  | Attainment/Unclassifiable
Jasper County |  | Attainment/Unclassifiable
Kershaw County |  | Attainment/Unclassifiable
Lancaster County |  | Attainment/Unclassifiable
Laurens County |  | Attainment/Unclassifiable
Lee County |  | Attainment/Unclassifiable
Lexington County |  | Attainment/Unclassifiable
McCormick County |  | Attainment/Unclassifiable
Marion County |  | Attainment/Unclassifiable
Marlboro County |  | Attainment/Unclassifiable
Newberry County |  | Attainment/Unclassifiable
Oconee County |  | Attainment/Unclassifiable
Orangeburg County |  | Attainment/Unclassifiable
Pickens County |  | Attainment/Unclassifiable
Richland County |  | Attainment/Unclassifiable
Saluda County |  | Attainment/Unclassifiable
Spartanburg County |  | Attainment/Unclassifiable
Sumter County |  | Attainment/Unclassifiable
Union County |  | Attainment/Unclassifiable
Williamsburg County |  | Attainment/Unclassifiable
York County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

39. Section 81.342 is amended by adding a table titled “South Dakota—2015 8-Hour Ozone NAAQS (Primary and Secondary)” following the table titled “South Dakota—2008 8-Hour Ozone NAAQS (Primary and secondary)” to read as follows:

§ 81.342 South Dakota.

* * * * *

South Dakota—2015 8-Hour Ozone NAAQS
[Primary and Secondary]
Designated area ¹ | Designation: Date ² | Designation: Type | Classification: Date | Classification: Type
Statewide |  | Attainment/Unclassifiable
Aurora County
Beadle County
Bennett County
Bon Homme County
Brookings County
Brown County
Brule County
Buffalo County
Campbell County
Charles Mix County
Clark County
Clay County
Codington County
Corson County
Custer County
Davison County
Day County
Deuel County
Dewey County
Douglas County
Edmunds County
Fall River County
Faulk County
Grant County
Gregory County
Haakon County
Hamlin County
Hand County
Hanson County
Harding County
Hughes County
Hutchinson County
Hyde County
Jackson County
Jerauld County
Jones County
Kingsbury County
Lake County
Lawrence County
Lincoln County
Lyman County
McCook County
McPherson County
Marshall County
Meade County
Mellette County
Miner County
Minnehaha County
Moody County
Oglala Lakota County
Pennington County
Perkins County
Potter County
Roberts County
Sanborn County
Spink County
Stanley County
Sully County
Todd County
Tripp County
Turner County
Union County
Walworth County
Yankton County
Ziebach County
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

40. Section 81.343 is amended by adding a table titled “Tennessee—2015 8-Hour Ozone NAAQS (Primary and Secondary)” following the table titled “Tennessee—2008 8-Hour Ozone NAAQS (Primary and secondary)” to read as follows:

§ 81.343 Tennessee.

* * * * *

Tennessee—2015 8-Hour Ozone NAAQS
[Primary and Secondary]
Designated area ¹ | Designation: Date ² | Designation: Type | Classification: Date | Classification: Type
Anderson County |  | Attainment/Unclassifiable
Bedford County |  | Attainment/Unclassifiable
Benton County |  | Attainment/Unclassifiable
Bledsoe County |  | Attainment/Unclassifiable
Blount County |  | Attainment/Unclassifiable
Bradley County |  | Attainment/Unclassifiable
Campbell County |  | Attainment/Unclassifiable
Cannon County |  | Attainment/Unclassifiable
Carroll County |  | Attainment/Unclassifiable
Carter County |  | Attainment/Unclassifiable
Cheatham County |  | Attainment/Unclassifiable
Chester County |  | Attainment/Unclassifiable
Claiborne County |  | Attainment/Unclassifiable
Clay County |  | Attainment/Unclassifiable
Cocke County |  | Attainment/Unclassifiable
Coffee County |  | Attainment/Unclassifiable
Crockett County |  | Attainment/Unclassifiable
Cumberland County |  | Attainment/Unclassifiable
Davidson County |  | Attainment/Unclassifiable
Decatur County |  | Attainment/Unclassifiable
DeKalb County |  | Attainment/Unclassifiable
Dickson County |  | Attainment/Unclassifiable
Dyer County |  | Attainment/Unclassifiable
Fayette County |  | Attainment/Unclassifiable
Fentress County |  | Attainment/Unclassifiable
Franklin County |  | Attainment/Unclassifiable
Gibson County |  | Attainment/Unclassifiable
Giles County |  | Attainment/Unclassifiable
Grainger County |  | Attainment/Unclassifiable
Greene County |  | Attainment/Unclassifiable
Grundy County |  | Attainment/Unclassifiable
Hamblen County |  | Attainment/Unclassifiable
Hamilton County |  | Attainment/Unclassifiable
Hancock County |  | Attainment/Unclassifiable
Hardeman County |  | Attainment/Unclassifiable
Hardin County |  | Attainment/Unclassifiable
Hawkins County |  | Attainment/Unclassifiable
Haywood County |  | Attainment/Unclassifiable
Henderson County |  | Attainment/Unclassifiable
Henry County |  | Attainment/Unclassifiable
Hickman County |  | Attainment/Unclassifiable
Houston County |  | Attainment/Unclassifiable
Humphreys County |  | Attainment/Unclassifiable
Jackson County |  | Attainment/Unclassifiable
Jefferson County |  | Attainment/Unclassifiable
Johnson County |  | Attainment/Unclassifiable
Knox County |  | Attainment/Unclassifiable
Lake County |  | Attainment/Unclassifiable
Lauderdale County |  | Attainment/Unclassifiable
Lawrence County |  | Attainment/Unclassifiable
Lewis County |  | Attainment/Unclassifiable
Lincoln County |  | Attainment/Unclassifiable
Loudon County |  | Attainment/Unclassifiable
McMinn County |  | Attainment/Unclassifiable
McNairy County |  | Attainment/Unclassifiable
Macon County |  | Attainment/Unclassifiable
Madison County |  | Attainment/Unclassifiable
Marion County |  | Attainment/Unclassifiable
Marshall County |  | Attainment/Unclassifiable
Maury County |  | Attainment/Unclassifiable
Meigs County |  | Attainment/Unclassifiable
Monroe County |  | Attainment/Unclassifiable
Montgomery County |  | Attainment/Unclassifiable
Moore County |  | Attainment/Unclassifiable
Morgan County |  | Attainment/Unclassifiable
Obion County |  | Attainment/Unclassifiable
Overton County |  | Attainment/Unclassifiable
Perry County |  | Attainment/Unclassifiable
Pickett County |  | Attainment/Unclassifiable
Polk County |  | Attainment/Unclassifiable
Putnam County |  | Attainment/Unclassifiable
Rhea County |  | Attainment/Unclassifiable
Roane County |  | Attainment/Unclassifiable
Robertson County |  | Attainment/Unclassifiable
Rutherford County |  | Attainment/Unclassifiable
Scott County |  | Attainment/Unclassifiable
Sequatchie County |  | Attainment/Unclassifiable
Sevier County |  | Attainment/Unclassifiable
Shelby County |  | Attainment/Unclassifiable
Smith County |  | Attainment/Unclassifiable
Stewart County |  | Attainment/Unclassifiable
Sullivan County |  | Attainment/Unclassifiable
Sumner County |  | Attainment/Unclassifiable
Tipton County |  | Attainment/Unclassifiable
Trousdale County |  | Attainment/Unclassifiable
Unicoi County |  | Attainment/Unclassifiable
Union County |  | Attainment/Unclassifiable
Van Buren County |  | Attainment/Unclassifiable
Warren County |  | Attainment/Unclassifiable
Washington County |  | Attainment/Unclassifiable
Wayne County |  | Attainment/Unclassifiable
Weakley County |  | Attainment/Unclassifiable
White County |  | Attainment/Unclassifiable
Williamson County |  | Attainment/Unclassifiable
Wilson County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

41. Section 81.344 is amended by adding a table titled “Texas—2015 8-Hour Ozone NAAQS (Primary and Secondary)” following the table titled “Texas—2008 8-Hour Ozone NAAQS (Primary and secondary)” to read as follows:

§ 81.344 Texas.

* * * * *

Texas—2015 8-Hour Ozone NAAQS
[Primary and Secondary]
Designated area ¹ | Designation: Date ² | Designation: Type | Classification: Date | Classification: Type
Anderson County |  | Attainment/Unclassifiable.
Andrews County |  | Attainment/Unclassifiable.
Angelina County |  | Attainment/Unclassifiable.
Aransas County |  | Attainment/Unclassifiable.
Archer County |  | Attainment/Unclassifiable.
Armstrong County |  | Attainment/Unclassifiable.
Bailey County |  | Attainment/Unclassifiable.
Bastrop County |  | Attainment/Unclassifiable.
Baylor County |  | Attainment/Unclassifiable.
Bee County |  | Attainment/Unclassifiable.
Bell County |  | Attainment/Unclassifiable.
Blanco County |  | Attainment/Unclassifiable.
Borden County |  | Attainment/Unclassifiable.
Bowie County |  | Attainment/Unclassifiable.
Brazos County |  | Attainment/Unclassifiable.
Brewster County |  | Attainment/Unclassifiable.
Briscoe County |  | Attainment/Unclassifiable.
Brooks County |  | Attainment/Unclassifiable.
Brown County |  | Attainment/Unclassifiable.
Burleson County |  | Attainment/Unclassifiable.
Burnet County |  | Attainment/Unclassifiable.
Caldwell County |  | Attainment/Unclassifiable.
Calhoun County |  | Attainment/Unclassifiable.
Callahan County |  | Attainment/Unclassifiable.
Cameron County |  | Attainment/Unclassifiable.
Camp County |  | Attainment/Unclassifiable.
Carson County |  | Attainment/Unclassifiable.
Cass County |  | Attainment/Unclassifiable.
Castro County |  | Attainment/Unclassifiable.
Cherokee County |  | Attainment/Unclassifiable.
Childress County |  | Attainment/Unclassifiable.
Clay County |  | Attainment/Unclassifiable.
Cochran County |  | Attainment/Unclassifiable.
Coke County |  | Attainment/Unclassifiable.
Coleman County |  | Attainment/Unclassifiable.
Collingsworth County |  | Attainment/Unclassifiable.
Colorado County |  | Attainment/Unclassifiable.
Comanche County |  | Attainment/Unclassifiable.
Concho County |  | Attainment/Unclassifiable.
Coryell County |  | Attainment/Unclassifiable.
Cottle County |  | Attainment/Unclassifiable.
Crane County |  | Attainment/Unclassifiable.
Crockett County |  | Attainment/Unclassifiable.
Crosby County |  | Attainment/Unclassifiable.
Culberson County |  | Attainment/Unclassifiable.
Dallam County |  | Attainment/Unclassifiable.
Dawson County |  | Attainment/Unclassifiable.
Deaf Smith County |  | Attainment/Unclassifiable.
Delta County |  | Attainment/Unclassifiable.
DeWitt County |  | Attainment/Unclassifiable.
Dickens County |  | Attainment/Unclassifiable.
Dimmit County |  | Attainment/Unclassifiable.
Donley County |  | Attainment/Unclassifiable.
Duval County |  | Attainment/Unclassifiable.
Eastland County |  | Attainment/Unclassifiable.
Ector County |  | Attainment/Unclassifiable.
Edwards County |  | Attainment/Unclassifiable.
Erath County |  | Attainment/Unclassifiable.
Falls County |  | Attainment/Unclassifiable.
Fayette County |  | Attainment/Unclassifiable.
Fisher County |  | Attainment/Unclassifiable.
Floyd County |  | Attainment/Unclassifiable.
Foard County |  | Attainment/Unclassifiable.
Franklin County |  | Attainment/Unclassifiable.
Freestone County |  | Attainment/Unclassifiable.
Frio County |  | Attainment/Unclassifiable.
Gaines County |  | Attainment/Unclassifiable.
Garza County |  | Attainment/Unclassifiable.
Gillespie County |  | Attainment/Unclassifiable.
Glasscock County |  | Attainment/Unclassifiable.
Goliad County |  | Attainment/Unclassifiable.
Gonzales County |  | Attainment/Unclassifiable.
Gray County |  | Attainment/Unclassifiable.
Gregg County |  | Attainment/Unclassifiable.
Hale County |  | Attainment/Unclassifiable.
Hall County |  | Attainment/Unclassifiable.
Hamilton County |  | Attainment/Unclassifiable.
Hansford County |  | Attainment/Unclassifiable.
Hardeman County |  | Attainment/Unclassifiable.
Hardin County |  | Attainment/Unclassifiable.
Harrison County |  | Attainment/Unclassifiable.
Hartley County |  | Attainment/Unclassifiable.
Haskell County |  | Attainment/Unclassifiable.
Hays County |  | Attainment/Unclassifiable.
Hemphill County |  | Attainment/Unclassifiable.
Hidalgo County |  | Attainment/Unclassifiable.
Hockley County |  | Attainment/Unclassifiable.
Houston County |  | Attainment/Unclassifiable.
Howard County |  | Attainment/Unclassifiable.
Hutchinson County |  | Attainment/Unclassifiable.
Irion County |  | Attainment/Unclassifiable.
Jackson County |  | Attainment/Unclassifiable.
Jasper County |  | Attainment/Unclassifiable.
Jeff Davis County |  | Attainment/Unclassifiable.
Jefferson County |  | Attainment/Unclassifiable.
Jim Hogg County |  | Attainment/Unclassifiable.
Jim Wells County |  | Attainment/Unclassifiable.
Jones County |  | Attainment/Unclassifiable.
Karnes County |  | Attainment/Unclassifiable.
Kenedy County |  | Attainment/Unclassifiable.
Kent County |  | Attainment/Unclassifiable.
Kerr County |  | Attainment/Unclassifiable.
Kimble County |  | Attainment/Unclassifiable.
King County |  | Attainment/Unclassifiable.
Kinney County |  | Attainment/Unclassifiable.
Kleberg County |  | Attainment/Unclassifiable.
Knox County |  | Attainment/Unclassifiable.
Lamar County |  | Attainment/Unclassifiable.
Lamb County |  | Attainment/Unclassifiable.
Lampasas County |  | Attainment/Unclassifiable.
La Salle County |  | Attainment/Unclassifiable.
Lavaca County |  | Attainment/Unclassifiable.
Lee County |  | Attainment/Unclassifiable.
Leon County |  | Attainment/Unclassifiable.
Limestone County |  | Attainment/Unclassifiable.
Lipscomb County |  | Attainment/Unclassifiable.
Live Oak County |  | Attainment/Unclassifiable.
Llano County |  | Attainment/Unclassifiable.
Loving County |  | Attainment/Unclassifiable.
Lubbock County |  | Attainment/Unclassifiable.
Lynn County |  | Attainment/Unclassifiable.
McCulloch County |  | Attainment/Unclassifiable.
McLennan County |  | Attainment/Unclassifiable.
McMullen County |  | Attainment/Unclassifiable.
Madison County |  | Attainment/Unclassifiable.
Marion County |  | Attainment/Unclassifiable.
Martin County |  | Attainment/Unclassifiable.
Mason County |  | Attainment/Unclassifiable.
Maverick County |  | Attainment/Unclassifiable.
Menard County |  | Attainment/Unclassifiable.
Midland County |  | Attainment/Unclassifiable.
Milam County |  | Attainment/Unclassifiable.
Mills County |  | Attainment/Unclassifiable.
Mitchell County |  | Attainment/Unclassifiable.
Montague County |  | Attainment/Unclassifiable.
Moore County |  | Attainment/Unclassifiable.
Morris County |  | Attainment/Unclassifiable.
Motley County |  | Attainment/Unclassifiable.
Nacogdoches County |  | Attainment/Unclassifiable.
Newton County |  | Attainment/Unclassifiable.
Nolan County |  | Attainment/Unclassifiable.
Nueces County |  | Attainment/Unclassifiable.
Ochiltree County |  | Attainment/Unclassifiable.
Oldham County |  | Attainment/Unclassifiable.
Orange County |  | Attainment/Unclassifiable.
Panola County |  | Attainment/Unclassifiable.
Parmer County |  | Attainment/Unclassifiable.
Pecos County |  | Attainment/Unclassifiable.
Polk County |  | Attainment/Unclassifiable.
Potter County |  | Attainment/Unclassifiable.
Presidio County |  | Attainment/Unclassifiable.
Rains County |  | Attainment/Unclassifiable.
Randall County |  | Attainment/Unclassifiable.
Reagan County |  | Attainment/Unclassifiable.
Real County |  | Attainment/Unclassifiable.
Red River County |  | Attainment/Unclassifiable.
Reeves County |  | Attainment/Unclassifiable.
Refugio County |  | Attainment/Unclassifiable.
Roberts County |  | Attainment/Unclassifiable.
Robertson County |  | Attainment/Unclassifiable.
Runnels County |  | Attainment/Unclassifiable.
Rusk County |  | Attainment/Unclassifiable.
Sabine County |  | Attainment/Unclassifiable.
San Augustine County |  | Attainment/Unclassifiable.
San Patricio County |  | Attainment/Unclassifiable.
San Saba County |  | Attainment/Unclassifiable.
Schleicher County |  | Attainment/Unclassifiable.
Scurry County |  | Attainment/Unclassifiable.
Shackelford County |  | Attainment/Unclassifiable.
Shelby County |  | Attainment/Unclassifiable.
Sherman County |  | Attainment/Unclassifiable.
Smith County |  | Attainment/Unclassifiable.
Starr County |  | Attainment/Unclassifiable.
Stephens County |  | Attainment/Unclassifiable.
Sterling County |  | Attainment/Unclassifiable.
Stonewall County |  | Attainment/Unclassifiable.
Sutton County |  | Attainment/Unclassifiable.
Swisher County |  | Attainment/Unclassifiable.
Taylor County |  | Attainment/Unclassifiable.
Terrell County |  | Attainment/Unclassifiable.
Terry County |  | Attainment/Unclassifiable.
Throckmorton County |  | Attainment/Unclassifiable.
Titus County |  | Attainment/Unclassifiable.
Tom Green County |  | Attainment/Unclassifiable.
Travis County |  | Attainment/Unclassifiable.
Tyler County |  | Attainment/Unclassifiable.
Upshur County |  | Attainment/Unclassifiable.
Upton County |  | Attainment/Unclassifiable.
Uvalde County |  | Attainment/Unclassifiable.
Val Verde County |  | Attainment/Unclassifiable.
Van Zandt County |  | Attainment/Unclassifiable.
Victoria County |  | Attainment/Unclassifiable.
Ward County |  | Attainment/Unclassifiable.
Webb County |  | Attainment/Unclassifiable.
Wheeler County |  | Attainment/Unclassifiable.
Wichita County |  | Attainment/Unclassifiable.
Wilbarger County |  | Attainment/Unclassifiable.
Willacy County |  | Attainment/Unclassifiable.
Williamson County |  | Attainment/Unclassifiable.
Winkler County |  | Attainment/Unclassifiable.
Wood County |  | Attainment/Unclassifiable.
Yoakum County |  | Attainment/Unclassifiable.
Young County |  | Attainment/Unclassifiable.
Zapata County |  | Attainment/Unclassifiable.
Zavala County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

42. Section 81.345 is amended by adding a table titled “Utah—2015 8-Hour Ozone NAAQS (Primary and Secondary)” following the table titled “Utah—2008 8-Hour Ozone NAAQS (Primary and secondary)” to read as follows:

§ 81.345 Utah.

* * * * *

Utah—2015 8-Hour Ozone NAAQS
[Primary and Secondary]
Designated area ¹ | Designation: Date ² | Designation: Type | Classification: Date | Classification: Type
Beaver County |  | Attainment/Unclassifiable
Emery County |  | Attainment/Unclassifiable
Garfield County |  | Attainment/Unclassifiable
Iron County |  | Attainment/Unclassifiable
Kane County |  | Attainment/Unclassifiable
Millard County |  | Attainment/Unclassifiable
Piute County |  | Attainment/Unclassifiable
San Juan County |  | Attainment/Unclassifiable
Sevier County |  | Attainment/Unclassifiable
Washington County |  | Attainment/Unclassifiable
Wayne County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

43. Section 81.346 is amended by adding a table titled “Vermont—2015 8-Hour Ozone NAAQS (Primary and Secondary)” following the table titled “Vermont—2008 8-Hour Ozone NAAQS (Primary and secondary)” to read as follows:

§ 81.346 Vermont.

* * * * *

Vermont—2015 8-Hour Ozone NAAQS
[Primary and Secondary]
Designated area ¹ | Designation: Date ² | Designation: Type | Classification: Date | Classification: Type
AQCR 159 Champlain Valley Interstate |  | Attainment/Unclassifiable
Addison County
Chittenden County
Franklin County
Grand Isle County
Rutland County
* AQCR 222 Vermont Intrastate |  | Attainment/Unclassifiable
Bennington County
Caledonia County
Essex County
Lamoille County
Orange County
Orleans County
Washington County
Windham County
Windsor County
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

44. Section 81.347 is amended by adding a table titled “Virginia—2015 8-Hour Ozone NAAQS (Primary and Secondary)” following the table titled “Virginia—2008 8-Hour Ozone NAAQS (Primary and secondary)” to read as follows:

§ 81.347 Virginia.

* * * * *

Virginia—2015 8-Hour Ozone NAAQS
[Primary and Secondary]
Designated area ¹ | Designation: Date ² | Designation: Type | Classification: Date | Classification: Type
Accomack County |  | Attainment/Unclassifiable
Albemarle County |  | Attainment/Unclassifiable
Alleghany County |  | Attainment/Unclassifiable
Amelia County |  | Attainment/Unclassifiable
Amherst County |  | Attainment/Unclassifiable
Appomattox County |  | Attainment/Unclassifiable
Augusta County |  | Attainment/Unclassifiable
Bath County |  | Attainment/Unclassifiable
Bedford County |  | Attainment/Unclassifiable
Bland County |  | Attainment/Unclassifiable
Botetourt County |  | Attainment/Unclassifiable
Brunswick County |  | Attainment/Unclassifiable
Buchanan County |  | Attainment/Unclassifiable
Buckingham County |  | Attainment/Unclassifiable
Campbell County |  | Attainment/Unclassifiable
Caroline County |  | Attainment/Unclassifiable
Carroll County |  | Attainment/Unclassifiable
Charles City County |  | Attainment/Unclassifiable
Charlotte County |  | Attainment/Unclassifiable
Chesterfield County |  | Attainment/Unclassifiable
Craig County |  | Attainment/Unclassifiable
Cumberland County |  | Attainment/Unclassifiable
Dickenson County |  | Attainment/Unclassifiable
Dinwiddie County |  | Attainment/Unclassifiable
Essex County |  | Attainment/Unclassifiable
Floyd County |  | Attainment/Unclassifiable
Fluvanna County |  | Attainment/Unclassifiable
Franklin County |  | Attainment/Unclassifiable
Giles County |  | Attainment/Unclassifiable
Gloucester County |  | Attainment/Unclassifiable
Goochland County |  | Attainment/Unclassifiable
Grayson County |  | Attainment/Unclassifiable
Greene County |  | Attainment/Unclassifiable
Greensville County |  | Attainment/Unclassifiable
Halifax County |  | Attainment/Unclassifiable
Hanover County |  | Attainment/Unclassifiable
Henrico County |  | Attainment/Unclassifiable
Henry County |  | Attainment/Unclassifiable
Highland County |  | Attainment/Unclassifiable
Isle of Wight County |  | Attainment/Unclassifiable
James City County |  | Attainment/Unclassifiable
King and Queen County |  | Attainment/Unclassifiable
King George County |  | Attainment/Unclassifiable
King William County |  | Attainment/Unclassifiable
Lancaster County |  | Attainment/Unclassifiable
Lee County |  | Attainment/Unclassifiable
Louisa County |  | Attainment/Unclassifiable
Lunenburg County |  | Attainment/Unclassifiable
Madison County |  | Attainment/Unclassifiable
Mathews County |  | Attainment/Unclassifiable
Mecklenburg County |  | Attainment/Unclassifiable
Middlesex County |  | Attainment/Unclassifiable
Montgomery County |  | Attainment/Unclassifiable
Nelson County |  | Attainment/Unclassifiable
New Kent County |  | Attainment/Unclassifiable
Northampton County |  | Attainment/Unclassifiable
Northumberland County |  | Attainment/Unclassifiable
Nottoway County |  | Attainment/Unclassifiable
Orange County |  | Attainment/Unclassifiable
Page County |  | Attainment/Unclassifiable
Patrick County |  | Attainment/Unclassifiable
Pittsylvania County |  | Attainment/Unclassifiable
Powhatan County |  | Attainment/Unclassifiable
Prince Edward County |  | Attainment/Unclassifiable
Prince George County |  | Attainment/Unclassifiable
Pulaski County |  | Attainment/Unclassifiable
Richmond County |  | Attainment/Unclassifiable
Roanoke County |  | Attainment/Unclassifiable
Rockbridge County |  | Attainment/Unclassifiable
Rockingham County |  | Attainment/Unclassifiable
Russell County |  | Attainment/Unclassifiable
Scott County |  | Attainment/Unclassifiable
Shenandoah County |  | Attainment/Unclassifiable
Smyth County |  | Attainment/Unclassifiable
Southampton County |  | Attainment/Unclassifiable
Surry County |  | Attainment/Unclassifiable
Sussex County |  | Attainment/Unclassifiable
Tazewell County |  | Attainment/Unclassifiable
Washington County |  | Attainment/Unclassifiable
Westmoreland County |  | Attainment/Unclassifiable
Wise County |  | Attainment/Unclassifiable
Wythe County |  | Attainment/Unclassifiable
York County |  | Attainment/Unclassifiable
Bristol City |  | Attainment/Unclassifiable
Buena Vista City |  | Attainment/Unclassifiable
Charlottesville City |  | Attainment/Unclassifiable
Chesapeake City |  | Attainment/Unclassifiable
Colonial Heights City |  | Attainment/Unclassifiable
Covington City |  | Attainment/Unclassifiable
Danville City |  | Attainment/Unclassifiable
Emporia City |  | Attainment/Unclassifiable
Franklin City |  | Attainment/Unclassifiable
Galax City |  | Attainment/Unclassifiable
Hampton City |  | Attainment/Unclassifiable
Harrisonburg City |  | Attainment/Unclassifiable
Hopewell City |  | Attainment/Unclassifiable
Lexington City |  | Attainment/Unclassifiable
Lynchburg City |  | Attainment/Unclassifiable
Martinsville City |  | Attainment/Unclassifiable
Newport News City |  | Attainment/Unclassifiable
Norfolk City |  | Attainment/Unclassifiable
Norton City |  | Attainment/Unclassifiable
Petersburg City |  | Attainment/Unclassifiable
Poquoson City |  | Attainment/Unclassifiable
Portsmouth City |  | Attainment/Unclassifiable
Radford City |  | Attainment/Unclassifiable
Richmond City |  | Attainment/Unclassifiable
Roanoke City |  | Attainment/Unclassifiable
Salem City |  | Attainment/Unclassifiable
Staunton City |  | Attainment/Unclassifiable
Suffolk City |  | Attainment/Unclassifiable
Virginia Beach City |  | Attainment/Unclassifiable
Waynesboro City |  | Attainment/Unclassifiable
Williamsburg City |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

45. Section 81.348 is amended by adding a table titled “Washington—2015 8-Hour Ozone NAAQS (Primary and Secondary)” following the table titled “Washington—2008 8-Hour Ozone NAAQS (Primary and secondary)” to read as follows:

§ 81.348 Washington.

* * * * *

Washington—2015 8-Hour Ozone NAAQS
[Primary and Secondary]
Designated area ¹ | Designation: Date ² | Designation: Type | Classification: Date | Classification: Type
Tri-Cities Area, WA |  | Unclassifiable
Benton County
Franklin County
Walla Walla County
Adams County |  | Attainment/Unclassifiable
Asotin County |  | Attainment/Unclassifiable
Chelan County |  | Attainment/Unclassifiable
Clallam County |  | Attainment/Unclassifiable
Columbia County |  | Attainment/Unclassifiable
Douglas County |  | Attainment/Unclassifiable
Ferry County |  | Attainment/Unclassifiable
Garfield County |  | Attainment/Unclassifiable
Grant County |  | Attainment/Unclassifiable
Grays Harbor County |  | Attainment/Unclassifiable
Island County |  | Attainment/Unclassifiable
Jefferson County |  | Attainment/Unclassifiable
King County |  | Attainment/Unclassifiable
Kitsap County |  | Attainment/Unclassifiable
Kittitas County |  | Attainment/Unclassifiable
Klickitat County |  | Attainment/Unclassifiable
Lewis County |  | Attainment/Unclassifiable
Lincoln County |  | Attainment/Unclassifiable
Mason County |  | Attainment/Unclassifiable
Okanogan County |  | Attainment/Unclassifiable
Pacific County |  | Attainment/Unclassifiable
Pend Oreille County |  | Attainment/Unclassifiable
Pierce County |  | Attainment/Unclassifiable
San Juan County |  | Attainment/Unclassifiable
Skagit County |  | Attainment/Unclassifiable
Snohomish County |  | Attainment/Unclassifiable
Spokane County |  | Attainment/Unclassifiable
Stevens County |  | Attainment/Unclassifiable
Thurston County |  | Attainment/Unclassifiable
Wahkiakum County |  | Attainment/Unclassifiable
Whatcom County |  | Attainment/Unclassifiable
Whitman County |  | Attainment/Unclassifiable
Yakima County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

46. Section 81.349 is amended by adding a table titled “West Virginia—2015 8-Hour Ozone NAAQS (Primary and Secondary)” following the table titled “West Virginia—2008 8-Hour Ozone NAAQS (Primary and secondary)” to read as follows:

§ 81.349 West Virginia.

* * * * *

West Virginia—2015 8-Hour Ozone NAAQS
[Primary and Secondary]
Designated area ¹ | Designation: Date ² | Designation: Type | Classification: Date | Classification: Type
Barbour County |  | Attainment/Unclassifiable
Boone County |  | Attainment/Unclassifiable
Braxton County |  | Attainment/Unclassifiable
Brooke County |  | Attainment/Unclassifiable
Cabell County |  | Attainment/Unclassifiable
Calhoun County |  | Attainment/Unclassifiable
Clay County |  | Attainment/Unclassifiable
Doddridge County |  | Attainment/Unclassifiable
Fayette County |  | Attainment/Unclassifiable
Gilmer County |  | Attainment/Unclassifiable
Grant County |  | Attainment/Unclassifiable
Greenbrier County |  | Attainment/Unclassifiable
Hancock County |  | Attainment/Unclassifiable
Hardy County |  | Attainment/Unclassifiable
Harrison County |  | Attainment/Unclassifiable
Jackson County |  | Attainment/Unclassifiable
Kanawha County |  | Attainment/Unclassifiable
Lewis County |  | Attainment/Unclassifiable
Lincoln County |  | Attainment/Unclassifiable
Logan County |  | Attainment/Unclassifiable
McDowell County |  | Attainment/Unclassifiable
Marion County |  | Attainment/Unclassifiable
Marshall County |  | Attainment/Unclassifiable
Mason County |  | Attainment/Unclassifiable
Mercer County |  | Attainment/Unclassifiable
Mineral County |  | Attainment/Unclassifiable
Mingo County |  | Attainment/Unclassifiable
Monongalia County |  | Attainment/Unclassifiable
Monroe County |  | Attainment/Unclassifiable
Morgan County |  | Attainment/Unclassifiable
Nicholas County |  | Attainment/Unclassifiable
Ohio County |  | Attainment/Unclassifiable
Pendleton County |  | Attainment/Unclassifiable
Pleasants County |  | Attainment/Unclassifiable
Pocahontas County |  | Attainment/Unclassifiable
Preston County |  | Attainment/Unclassifiable
Putnam County |  | Attainment/Unclassifiable
Raleigh County |  | Attainment/Unclassifiable
Randolph County |  | Attainment/Unclassifiable
Ritchie County |  | Attainment/Unclassifiable
Roane County |  | Attainment/Unclassifiable
Summers County |  | Attainment/Unclassifiable
Taylor County |  | Attainment/Unclassifiable
Tucker County |  | Attainment/Unclassifiable
Tyler County |  | Attainment/Unclassifiable
Upshur County |  | Attainment/Unclassifiable
Wayne County |  | Attainment/Unclassifiable
Webster County |  | Attainment/Unclassifiable
Wetzel County |  | Attainment/Unclassifiable
Wirt County |  | Attainment/Unclassifiable
Wood County |  | Attainment/Unclassifiable
Wyoming County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

47. Section 81.350 is amended by adding a table titled “Wisconsin—2015 8-Hour Ozone NAAQS (Primary and Secondary)” following the table titled “Wisconsin—2008 8-Hour Ozone NAAQS (Primary and secondary)” to read as follows:

§ 81.350 Wisconsin.

* * * * *

Wisconsin—2015 8-Hour Ozone NAAQS
[Primary and Secondary]
Designated area ¹ | Designation: Date ² | Designation: Type | Classification: Date | Classification: Type
Adams County |  | Attainment/Unclassifiable
Ashland County |  | Attainment/Unclassifiable
Barron County |  | Attainment/Unclassifiable
Bayfield County |  | Attainment/Unclassifiable
Buffalo County |  | Attainment/Unclassifiable
Burnett County |  | Attainment/Unclassifiable
Chippewa County |  | Attainment/Unclassifiable
Clark County |  | Attainment/Unclassifiable
Columbia County |  | Attainment/Unclassifiable
Crawford County |  | Attainment/Unclassifiable
Dane County |  | Attainment/Unclassifiable
Douglas County |  | Attainment/Unclassifiable
Dunn County |  | Attainment/Unclassifiable
Eau Claire County |  | Attainment/Unclassifiable
Florence County |  | Attainment/Unclassifiable
Forest County |  | Attainment/Unclassifiable
Grant County |  | Attainment/Unclassifiable
Green County |  | Attainment/Unclassifiable
Green Lake County |  | Attainment/Unclassifiable
Iowa County |  | Attainment/Unclassifiable
Iron County |  | Attainment/Unclassifiable
Jackson County |  | Attainment/Unclassifiable
Juneau County |  | Attainment/Unclassifiable
La Crosse County |  | Attainment/Unclassifiable
Lafayette County |  | Attainment/Unclassifiable
Langlade County |  | Attainment/Unclassifiable
Lincoln County |  | Attainment/Unclassifiable
Marathon County |  | Attainment/Unclassifiable
Marinette County |  | Attainment/Unclassifiable
Marquette County |  | Attainment/Unclassifiable
Menominee County |  | Attainment/Unclassifiable
Monroe County |  | Attainment/Unclassifiable
Oconto County |  | Attainment/Unclassifiable
Oneida County |  | Attainment/Unclassifiable
Outagamie County |  | Attainment/Unclassifiable
Pepin County |  | Attainment/Unclassifiable
Pierce County |  | Attainment/Unclassifiable
Polk County |  | Attainment/Unclassifiable
Portage County |  | Attainment/Unclassifiable
Price County |  | Attainment/Unclassifiable
Richland County |  | Attainment/Unclassifiable
Rock County |  | Attainment/Unclassifiable
Rusk County |  | Attainment/Unclassifiable
St. Croix County |  | Attainment/Unclassifiable
Sauk County |  | Attainment/Unclassifiable
Sawyer County |  | Attainment/Unclassifiable
Shawano County |  | Attainment/Unclassifiable
Taylor County |  | Attainment/Unclassifiable
Trempealeau County |  | Attainment/Unclassifiable
Vernon County |  | Attainment/Unclassifiable
Vilas County |  | Attainment/Unclassifiable
Washburn County |  | Attainment/Unclassifiable
Waupaca County |  | Attainment/Unclassifiable
Waushara County |  | Attainment/Unclassifiable
Winnebago County |  | Attainment/Unclassifiable
Wood County |  | Attainment/Unclassifiable
Forest County Potawatomi Community Indian Tribe ³ |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.
³ Includes Indian country of the tribe listed in this table located in Forest County, Wisconsin. Information pertaining to areas of Indian country in this table is intended for Clean Air Act planning purposes only and is not an EPA determination of Indian country status or any Indian country boundary. EPA lacks the authority to establish Indian country land status, and is making no determination of Indian country boundaries, in this table.

* * * * *

48. Section 81.351 is amended by adding a table titled “Wyoming—2015 8-Hour Ozone NAAQS (Primary and Secondary)” following the table titled “Wyoming—2008 8-Hour Ozone NAAQS (Primary and secondary)” to read as follows:

§ 81.351 Wyoming.

* * * * *

Wyoming—2015 8-Hour Ozone NAAQS
[Primary and Secondary]
Designated area ¹ | Designation: Date ² | Designation: Type | Classification: Date | Classification: Type
Big Horn County |  | Attainment/Unclassifiable
Campbell County |  | Attainment/Unclassifiable
Carbon County |  | Attainment/Unclassifiable
Converse County |  | Attainment/Unclassifiable
Crook County |  | Attainment/Unclassifiable
Fremont County |  | Attainment/Unclassifiable
Goshen County |  | Attainment/Unclassifiable
Hot Springs County |  | Attainment/Unclassifiable
Johnson County |  | Attainment/Unclassifiable
Lincoln County |  | Attainment/Unclassifiable
Natrona County |  | Attainment/Unclassifiable
Niobrara County |  | Attainment/Unclassifiable
Park County |  | Attainment/Unclassifiable
Platte County |  | Attainment/Unclassifiable
Sheridan County |  | Attainment/Unclassifiable
Sublette County |  | Attainment/Unclassifiable
Sweetwater County |  | Attainment/Unclassifiable
Teton County |  | Attainment/Unclassifiable
Uinta County |  | Attainment/Unclassifiable
Washakie County |  | Attainment/Unclassifiable
Weston County |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

49. Section 81.352 is amended by adding a table titled “American Samoa—2015 8-Hour Ozone NAAQS (Primary and Secondary)” following the table titled “American Samoa—2008 8-Hour Ozone NAAQS (Primary and secondary)” to read as follows:

§ 81.352 American Samoa.

* * * * *

American Samoa—2015 8-Hour Ozone NAAQS
[Primary and Secondary]
Designated area ¹ | Designation: Date ² | Designation: Type | Classification: Date | Classification: Type
Territory Wide and Any Areas of Indian Country: American Samoa |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

50. Section 81.353 is amended by adding a table titled “Guam—2015 8-Hour Ozone NAAQS (Primary and Secondary)” following the table titled “Guam—2008 8-Hour Ozone NAAQS (Primary and secondary)” to read as follows:

§ 81.353 Guam.

* * * * *

Guam—2015 8-Hour Ozone NAAQS
[Primary and Secondary]
Designated area ¹ | Designation: Date ² | Designation: Type | Classification: Date | Classification: Type
Territory Wide |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

51. Section 81.354 is amended by adding a table titled “Northern Mariana Islands—2015 8-Hour Ozone NAAQS (Primary and Secondary)” following the table titled “Northern Mariana Islands—2008 8-Hour Ozone NAAQS (Primary and secondary)” to read as follows:

§ 81.354 Northern Mariana Islands.

* * * * *

Northern Mariana Islands—2015 8-Hour Ozone NAAQS
[Primary and Secondary]
Designated area ¹ | Designation: Date ² | Designation: Type | Classification: Date | Classification: Type
Northern Mariana Islands |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

52. Section 81.355 is amended by adding a table titled “Puerto Rico—2015 8-Hour Ozone NAAQS (Primary and Secondary)” following the table titled “Puerto Rico—2008 8-Hour Ozone NAAQS (Primary and secondary)” to read as follows:

§ 81.355 Puerto Rico.

* * * * *

Puerto Rico—2015 8-Hour Ozone NAAQS
[Primary and Secondary]
Designated area ¹ | Designation: Date ² | Designation: Type | Classification: Date | Classification: Type
All of Puerto Rico AQCR 244 |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

53. Section 81.356 is amended by adding a table titled “Virgin Islands—2015 8-Hour Ozone NAAQS (Primary and Secondary)” following the table titled “Virgin Islands—2008 8-Hour Ozone NAAQS (Primary and secondary)” to read as follows:

§ 81.356 Virgin Islands.

* * * * *

Virgin Islands—2015 8-Hour Ozone NAAQS
[Primary and Secondary]
Designated area ¹ | Designation: Date ² | Designation: Type | Classification: Date | Classification: Type
All of Virgin Islands AQCR 247 |  | Attainment/Unclassifiable
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

[FR Doc. 2017-24640 Filed 11-15-17; 8:45 am]

BILLING CODE 6560-50-P